DEPARTMENT OF THE INTERIOR

Fish and Wildlife Service 1018-AG20

[1018-AG20]

Draft Wildlife-Dependent Recreational Uses Policy Pursuant to the National Wildlife Refuge System Improvement Act of 1997

AGENCY: Fish and Wildlife Service, Interior.

ACTION: Notice.

SUMMARY: We propose to adopt a policy that will explain how we will provide visitors with high quality hunting, fishing, wildlife observation and photography, and environmental education and interpretation opportunities on units of the National Wildlife Refuge System (System). The National Wildlife Refuge System Improvement Act of 1997 (NWRSIA-1997), that amends the National Wildlife Refuge System Administration Act of 1966 (NWRSAA-1966), defines and establishes that wildlife-dependent recreational uses (hunting, fishing, wildlife observation and photography, and environmental education and interpretation) are the priority general public uses of the System and, if found compatible, will receive enhanced and priority consideration in refuge planning and management over other general public uses. This draft policy describes how we will provide priority to these uses. We propose to incorporate this policy as Part 605 Chapters 1-7 of the Fish and Wildlife Service Manual.

DATES: Comments must be received by March 19, 2001.

ADDRESSES: You may submit comments on this draft wildlife-dependent recreational uses policy by mail, fax or e:mail: by mail to Douglas Staller, Acting Chief, Division of Visitor Services and Communications, National Wildlife Refuge System, U.S. Fish and Wildlife Service, 4401 North Fairfax Drive, Room 670, Arlington, Virginia 22203; by fax to (703) 358-2248; or by e:mail to Wildlife_Dependent_ Recreational_Uses_ Policy_Comments@fws.gov.

FOR FURTHER INFORMATION CONTACT: Douglas Staller, Acting Chief, Division of Visitor Services and Communications, National Wildlife Refuge System, U.S. Fish and Wildlife Service, Telephone (703) 358-1744.

SUPPLEMENTARY INFORMATION: The NWRSIA-1997 amends and builds upon the NWRSAA-1966 providing an “Organic Act” for the System. The NWRSIA-1997 clearly establishes that wildlife conservation is the singular System mission, provides guidance to the Secretary of the Interior (Secretary) for management of the System, provides a mechanism for refuge planning, and gives refuge managers uniform direction and procedures for making decisions regarding wildlife conservation and uses of the System.

The NWRSIA-1997 identifies six wildlife-dependent recreational uses (hunting, fishing, wildlife observation and photography, and environmental education and interpretation) as the priority general public uses of the System. The NWRSIA-1997 also provides a set of affirmative stewardship responsibilities regarding our administration of the System. These stewardship responsibilities direct us to ensure that these six wildlife-dependent recreational uses are provided enhanced consideration and priority over other general public uses.

The Refuge Recreation Act of 1962 (RRA-1962) authorizes us to administer the System for public recreation when the use is an “appropriate incidental or secondary use.” The RRA-1962 also requires us to regulate or curtail public recreational uses in order to insure accomplishment of our primary conservation objectives.

The six wildlife-dependent recreational uses are the priority public uses of the System have been determined to be appropriate by law and, when compatible, are to be facilitated. This Draft Wildlife-Dependent Recreational Uses Policy, the Draft Appropriate Refuge Uses Policy published concurrently in the notice section of this Federal Register and our Final Compatibility Policy and Regulations published in the October 18, 2000 Federal Register are key tools refuge managers use together to fortify our commitment to provide enhanced opportunities for the public to enjoy wildlife-dependent recreation while at the same time ensuring that no refuge uses compromise the System's wildlife conservation mission and the individual refuge purpose(s). Through careful planning, consistent System-wide application of regulations and policies, diligent monitoring of the impacts of uses on natural resources, and by preventing or eliminating uses not appropriate to the System, we can achieve our wildlife conservation mission and individual refuge purposes while also providing people with lasting opportunities for the highest quality wildlife-dependent recreation.

Wildlife-Dependent Recreational Uses Policy

To ensure the primacy of the System wildlife conservation mission as well as the individual refuge purpose(s), and to be sure we afford priority to the six wildlife-dependent recreational uses within the System, we are proposing to establish a policy on wildlife-dependent recreational uses. Following is a summary of this policy.

Chapter 1 General Guidance provides Service policies, strategies, and requirements concerning the management of recreation programs within the System. National wildlife refuges are national treasures for wildlife and for people who enjoy the wonders of the outdoors. Wildlife-dependent recreation programs will promote understanding and appreciation of natural and cultural resources and their management on all lands included in the System. To assure that the System's fish, wildlife, and plant resources endure, their needs must come first. Thus, we only allow recreational uses on a refuge after we determine that use to be appropriate and compatible. In addition, we manage recreation in accordance with applicable Federal, State, and Tribal laws [see Code of Federal Regulations (CFR), Title 50 subchapter C]. We encourage refuge staff to develop and take full advantage of opportunities to work with other partners who have an interest in helping us promote high quality wildlife-dependent recreational programs on refuges. The policy outlined in this chapter applies to all recreational use activities that occur within the System, including wildlife-dependent and other appropriate recreational uses. Our general policy is to provide the American public high-quality opportunities to take part in wildlife-dependent recreation, regardless of age, race, religion, color, sex, national origin, sexual orientation, or physical or mental ability. To accomplish this policy, we ensure consistency and professionalism in planning and implementing recreational use programs and activities on System lands. Wildlife-dependent recreational uses (hunting, fishing, wildlife observation and photography, and environmental education and interpretation) are the priority general public uses of the System and, when determined to be compatible, will receive enhanced and priority consideration in refuge planning and management over all other general public uses.

Chapter 2 Hunting provides Service policy governing the management of recreational hunting within the System. The NWRSAA-1966 as amended by the NWRSIA-1997 identifies hunting as a priority public use of the System. Hunting programs will promote understanding and appreciation of natural and cultural resources and their management on all lands included in the System. Hunting is also an integral part of a comprehensive wildlife management program. When determined to be compatible, refuge managers are strongly encouraged to provide to the public high-quality hunting opportunities. We plan hunting programs in consultation and cooperatively with appropriate State and Tribal agencies, and we conduct them, to the extent practicable, in accordance with applicable State and Tribal regulations. We encourage refuge staff to develop and take full advantage of opportunities to work with other partners who have an interest in helping us promote high quality wildlife-dependent recreational programs on refuges.

Chapter 3 Fishing provides Service policy governing the management of recreational fishing within the System. The NWRSAA-1966 as amended by the NWRSIA-1997 identifies fishing as a priority public use of the System. Fishing programs will promote understanding and appreciation of natural and cultural resources and their management on all lands included in the System. When determined to be compatible, refuge managers are encouraged to provide to the public high-quality fishing opportunities. We plan fishing programs in consultation and cooperatively with the appropriate State and Tribal agencies. We base fishing seasons on refuges on local conditions and biological objectives. These seasons must, where practicable, conform with appropriate Federal, State, and Tribal regulations. The Service's Division of Fish and Wildlife Management Assistance has many field offices with a broad range of expertise that are available to the Refuge Manager when planning and managing fishing programs. We encourage refuge managers to take advantage of this important resource. We also encourage refuge staff to develop and take full advantage of opportunities to work with other partners who have an interest in helping us promote high quality wildlife-dependent recreational programs on refuges.

Chapter 4 Wildlife Observation provides Service policy governing the management of recreational wildlife observation within the System. The NWRSAA-1966 as amended by the NWRSIA-1997 identifies wildlife observation as a priority public use of the System. Wildlife observation programs will promote understanding and appreciation of natural and cultural resources and their management on all lands included in the System. When determined to be compatible, refuge managers are encouraged to provide to the public high quality wildlife observation opportunities. Refuge managers are encouraged to coordinate refuge wildlife observation programs with applicable Federal, State and Tribal programs. We encourage refuge staff to develop and take full advantage of opportunities to work with other partners who have an interest in helping us promote high quality wildlife-dependent recreational programs on refuges.

Chapter 5 Wildlife Photography provides Service policy governing the management of recreational wildlife photography within the System. The NWRSAA-1966 as amended by the NWRSIA-1997 identifies wildlife photography as a priority public use of the System. Wildlife photography programs will promote understanding and appreciation of natural and cultural resources and their management on all lands included in the System. When determined to be compatible, refuge managers are encouraged to provide to the public high quality wildlife photography opportunities. Refuge managers are encouraged to coordinate wildlife photography programs with applicable State programs. We encourage refuge staff to develop and take full advantage of opportunities to work with other partners who have an interest in helping us promote high quality wildlife-dependent recreational programs on refuges.

Chapter 6 Environmental Education provides Service policy governing the management of environmental education within the System. The NWRSAA-1966 as amended by the NWRSIA-1997 identifies environmental education as a priority public use of the System. Environmental education programs will promote understanding and appreciation of natural and cultural resources and their management on all lands included in the System. When determined to be compatible, refuge managers are encouraged to provide to the public high quality environmental education opportunities. Refuge managers will work with local schools, citizen groups, and other organizations to provide these programs. We encourage refuge managers to coordinate refuge environmental education programs with applicable local, State and Federal programs. We encourage refuge staff to develop and take full advantage of opportunities to work with other partners who have an interest in helping us promote high quality wildlife-dependent recreational programs on refuges.

Chapter 7 Interpretation provides Service policy governing the management of interpretation within the System. The NWRSAA-1966 as amended by the NWRSIA-1997 identifies interpretation as a priority public use of the System. Interpretation programs will promote understanding and appreciation of natural and cultural resources and their management on all lands included in the System. When determined to be compatible, refuge managers are encouraged to provide to the public high quality interpretation opportunities. We encourage refuge staff to coordinate refuge interpretive programs and materials with applicable local, State, and Federal programs. We encourage refuge staff to develop and take full advantage of opportunities to work with other partners who have an interest in helping us promote high quality wildlife-dependent recreational programs on refuges.

Fish and Wildlife Service Directives System

Because many of our field stations are in remote areas across the United States, it is important that all employees have available and know the current policy and management directives that affect their daily activities. The Fish and Wildlife Service Directives System, consisting of the Fish and Wildlife Service Manual (Service Manual), Director's Orders, and National Policy Issuances, is the vehicle for issuing the standing and continuing policy and management directives of the Service. New directives are posted on the Internet upon approval, ensuring that all employees have prompt access to the most current guidance.

The Service Manual contains our standing and continuing directives with which our employees comply. We use it to implement our authorities and to “step down” our compliance with statutes, executive orders, and Departmental directives. It establishes the requirements and procedures to assist our employees in carrying out our authorities, responsibilities, and activities.

Director's Orders are limited to temporary policy, procedures, delegations of authority, emergency regulations, special assignments of functions, and initial functional statements on the establishment of new organizational units. All Director's Orders must be converted as soon as practicable to appropriate parts of the Service Manual or removed. Material appropriate for immediate inclusion in the Service Manual generally is not issued as a Director's Order.

National Policy Issuances promulgate the Director's national policies for managing the Service and its programs. These policies are necessarily broad and generally require management discretion or judgment in their implementation. They represent the Director's expectations of how the Service and its employees will act in carrying out their official responsibilities.

The Service Manual, Director's Orders, and National Policy Issuances are available on the Internet at http://www.fws.gov/directives/direct.html. When finalized, we will incorporate this wildlife-dependent recreational uses policy into the Service Manual as Part 605 Chapters 1-7.

Comment Solicitation

We seek public comments on this draft wildlife-dependent recreational uses policy and will take into consideration comments and any additional information received during the 60-day comment period. You may submit comments on this draft appropriate refuge uses policy by mail, fax or e:mail: by mail to Douglas Staller, Acting Chief, Division of Visitor Services and Communications, National Wildlife Refuge System, U.S. Fish and Wildlife Service, 4401 North Fairfax Drive, Room 670, Arlington, Virginia 22203; by fax to (703)358-2248; or by e:mail to Wildlife_Dependent_ Recreational_Uses_ Policy_Comments@fws.gov. Please submit Internet comments as an ASCII file avoiding the use of special characters and any form of encryption. Please also include: “Attn: 1018-AG18” and your name and return address in your Internet message. If you do not receive a confirmation from the system that we have received your Internet message, contact us directly at (703)358-1744. Finally, you may hand-deliver comments to the address mentioned above.

Our practice is to make comments, including names and home addresses of respondents, available for public review during regular business hours. Individual respondents may request that we withhold their home address from the record, which we will honor to the extent allowable by law. In some circumstances, we would withhold from the record a respondent's identity, as allowable by law. If you wish us to withhold your name and/or address, you must state this prominently at the beginning of your comment. However, we will not consider anonymous comments. We will make all submissions from organizations or businesses and from individuals identifying themselves as representatives or officials of organizations or businesses, available for public inspection in their entirety.

We published a notice in the Federal Register on January 23, 1998 (63 FR 3583) notifying the public that we would be revising the Service Manual, establishing regulations as they relate to the NWRSIA-1997, and offering to send copies of specific draft Service Manual chapters to anyone who would like to receive them. We will mail a copy of these draft Service Manual wildlife-dependent recreational uses chapters to those who requested one. In addition, these draft Service Manual wildlife-dependent recreational uses chapters will be available on the Internet at http://www.fws.gov/directives/library/frindex.html during the 60-day comment period.

Required Determinations

We have analyzed the impacts of this final policy in concert with the draft appropriate refuge uses policy published concurrently in the today's issue of the Federal Register. For compliance with applicable laws and executive orders affecting the issuance of polices, see the SUPPLEMENTARY INFORMATION section of the draft appropriate refuge uses policy notice.

Available Information for Specific National Wildlife Refuges

Individual national wildlife refuge headquarters retain information regarding public use programs and the conditions that apply to their specific programs, and maps of their respective areas.

You may also obtain information from the Regional Offices at the addresses listed below:

• Region 1—California, Hawaii, Idaho, Nevada, Oregon, and Washington. Regional Chief, National Wildlife Refuge System, U.S. Fish and Wildlife Service, Eastside Federal Complex, Suite 1692, 911 N.E. 11th Avenue, Portland, Oregon 97232-4181; Telephone (503) 231-6214; http://pacific.fws.gov.

• Region 2—Arizona, New Mexico, Oklahoma and Texas. Regional Chief, National Wildlife Refuge System, U.S. Fish and Wildlife Service, Box 1306, Albuquerque, New Mexico 87103; Telephone (505) 248-7419; http://southwest.fws.gov.

• Region 3—Illinois, Indiana, Iowa, Michigan, Minnesota, Missouri, Ohio and Wisconsin. Regional Chief, National Wildlife Refuge System, U.S. Fish and Wildlife Service, Federal Building, Fort Snelling, Twin Cities, Minnesota 55111; Telephone (612) 713-5300; http://midwest.fws.gov.

• Region 4—Alabama, Arkansas, Florida, Georgia, Kentucky, Louisiana, Mississippi, North Carolina, South Carolina, Tennessee, Puerto Rico and the Virgin Islands. Regional Chief, National Wildlife Refuge System, U.S. Fish and Wildlife Service, 1875 Century Boulevard, Room 324, Atlanta, Georgia 30345; Telephone (404) 679-7166; http://southeast.fws.gov.

• Region 5—Connecticut, Delaware, District of Columbia, Maine, Maryland, Massachusetts, New Hampshire, New Jersey, New York, Pennsylvania, Rhode Island, Vermont, Virginia and West Virginia. Regional Chief, National Wildlife Refuge System, U.S. Fish and Wildlife Service, 300 Westgate Center Drive, Hadley, Massachusetts 01035-9589; Telephone (413) 253-8306; http://northeast.fws.gov.

• Region 6—Colorado, Kansas, Montana, Nebraska, North Dakota, South Dakota, Utah and Wyoming. Regional Chief, National Wildlife Refuge System, U.S. Fish and Wildlife Service, 134 Union Blvd., Lakewood, Colorado 80228; Telephone (303) 236-8145; http://www.r6.fws.gov.

• Region 7—Alaska. Regional Chief, National Wildlife Refuge System, U.S. Fish and Wildlife Service, 1011 E. Tudor Rd., Anchorage, Alaska 99503; Telephone (907) 786-3545; http://alaska.fws.gov.

Primary Author

Deb Steen, Outdoor Recreation Planner and Dennis Prichard, Outdoor Recreation Planner, National Wildlife Refuge System, U.S. Fish and Wildlife Service, are the primary authors of this notice.

Draft General Guidance Policy

Fish and Wildlife Service

Priority Wildlife-Dependent Recreation

Part 605 Fish and Wildlife Service Manual

Chapter 1 General Guidance 605 FW 1.1

1.1 What is the purpose of this chapter? This chapter provides Fish and Wildlife Service (Service) policies, strategies, and requirements concerning the management of recreation programs within the National Wildlife Refuge System (System).

1.2 What is the System's general recreation management policy? National wildlife refuges are national treasures for wildlife and for people who enjoy the wonders of the outdoors. To assure that the System's fish, wildlife, and plant resources endure, their needs must come first. Thus, we only allow recreational uses on a refuge after we determine that use to be appropriate and compatible. In addition, we manage recreation in strict accordance with applicable Federal, State, and Tribal laws [see Code of Federal Regulations (CFR), Title 50 subchapter C]. We encourage refuge staff to develop and take full advantage of opportunities to work with other partners who have an interest in helping us promote high quality wildlife-dependent recreational programs on refuges. The policy outlined in this chapter applies to all recreational use activities that occur within the System, including wildlife-dependent and other appropriate recreational uses. Our general policy is to provide the American public high-quality opportunities to take part in wildlife-dependent recreation, regardless of age, race, religion, color, sex, national origin, sexual orientation, physical or mental ability. To accomplish this policy, we ensure consistency and professionalism in planning and implementing recreational use programs and activities on System lands.

1.3 What authorities allow recreation use to occur on the Refuge System? The following are laws and executive orders that regulate recreational use on System lands:

A. Laws

(1) Alaska National Interest Lands Conservation Act of 1980 (16 U.S.C. 410 hh-3233 and 43 U.S.C. 1602-1784)

(2) Alaska Native Claims Settlement Act (43 U.S.C. 1601-1624)

(3) Antiquities Act of 1906 (16 U.S.C. 431-433)

(4) Archaeological Resources Protection Act of 1979 (16 U.S.C. 470aa-470mm)

(5) Fish and Wildlife Act of 1956 (16 U.S.C. 742a-742j) as amended.

(6) Fish and Wildlife Conservation Act (16 U.S.C. 2901-2911), as amended

(7) Fish and Wildlife Improvement Act of 1978 (16 U.S.C. 7421)

(8) Land and Water Conservation Fund [16 U.S.C. 460(l-4)-(l-11)],as amended.

(9) National Wildlife Refuge System Administration Act of 1966 (16 U.S.C. 668dd-668ee), as amended

(10) Refuge Recreation Act of 1962 (16 U.S.C. 460k-460k-4) as amended

(11) Wild and Scenic Rivers Act (16 U.S.C. 1271-1287), as amended.

(12) Wilderness Act of 1964 (16 U.S.C. 1131-1136)

(13) Endangered Species Act of 1973 (16 U.S.C. 1531-1544)

B. Executive Orders

(1) 11593—Protection and Enhancement of the Cultural Environment

(2) 11644—Use of Off-road Vehicles on the Public Lands

(3) 12996—Management and General Public Use of the National Wildlife Refuge System

(4) 13007—Indian Sacred Sites

(5) 12962—Recreational Fisheries

1.4 How do we define the following terms? The following are definitions of terms used throughout this chapter.

A. Priority wildlife-dependent recreational use and priority wildlife-dependent recreation. The National Wildlife Refuge System Administration Act of 1966, as amended, specifies that there are six priority general public uses of the National Wildlife Refuge System. The uses are hunting (605 FW 2), fishing (605 FW 3), wildlife observation (605 FW 4), wildlife photography (605 FW 5), environmental education (605 FW 6) or environmental interpretation (605 FW 7).

B. Other recreational use. A recreational use of the System that is not one of the priority wildlife-dependent uses, but we may allow it if it is appropriate and compatible.

C. Public use. Any use of the System by the public, including, but not limited to, those recreational uses and priority wildlife-dependent uses described above.

1.5 What tools can we use to help us implement and manage a recreational use program? Refuge managers have various tools available to them to implement recreational use programs on refuges. These include, but are not limited to: building successful refuge support groups, building successful volunteer programs, implementing a user fee program, conducting meetings, highlighting refuge attributes through exhibits and brochures, hiring staff, training personnel, registering users, and issuing special use permits. We determine overall effectiveness of the programs by evaluating factors such as improved resource protection, the success of refuge support groups, the quality of the visitor's experience, and visitor compliance.

1.6 How do we promote the mission of the System? We can promote the mission of the System through special events on both a local and national scale to showcase the System's roles in conservation efforts. These events can enhance public understanding and appreciation for conservation, and encourage broader public enjoyment of natural resources. We encourage Refuge managers to host special events for National Wildlife Refuge Week, International Migratory Bird Day, National Hunting and Fishing Day, Youth Hunting Days, National Fishing Week, and celebrations on refuge anniversaries, where appropriate. We also encourage Refuge managers to look for ways to introduce new sectors of the public to the System during these celebrations. By reaching out to new sectors, we lay the foundation to expand support for the System, understanding of wildlife conservation and management, and participation in wildlife dependent recreation.

1.7 What management techniques are available to help us administer recreation programs? We will successfully administer recreational programs through the use of:

A. Monitoring. Refuge managers, with help and support from Regional Offices as well as the public, must adequately monitor recreational activities on System lands. Monitoring programs must focus on the impacts of recreational activities on wildlife, habitat, and the quality of experience for the public. By implementing successful monitoring techniques, we can evaluate and adaptively manage to meet established standards and ensure that activities continue to be appropriate and compatible.

B. Resolving conflicts. Refuge managers may establish use limits and/or zones for specific activities, disperse or restrict use, or use other means to minimize or eliminate conflict between uses that occur at refuges. We will ensure that non-priority uses, if allowed, do not interfere with or diminish the opportunity for or quality of priority wildlife-dependent recreational uses. Through the use of zones or the establishment of acceptable limits, we can generally provide a balanced recreation program and avoid favoring one priority recreational opportunity over another when both are compatible. We recognize, however that some refuges can support no public use; many refuges only support limited public use; and that not every priority use can be accommodated on every refuge.

C. Closure of sensitive areas. Once opened to public use, the Refuge Manager may make a determination to close all or part of a refuge for public health and human safety reasons or to protect fish, wildlife, or plant resources. During non-emergency closure situations, the public will be notified and have the opportunity to participate in the decision-making process. During emergency closures, we will make every effort to keep the public informed of management decisions and, where possible, the basis for the closure.

1.8 How do we address special requests and temporary situations? The System's recreational use policy must be flexible enough to address special requests or temporary situations. We accommodate these requests only if they are appropriate, compatible, and there are clear benefits to the Service for allowing the use. Provided the use is determined to be both appropriate (reference Appropriate Uses Chapter, 603 FW 1) and compatible, the Refuge Manager, with guidance from the Regional Office, may issue a one-time or short-term permit for recreational activities not generally allowed (e.g., an overnight activity or use of an historic structure). We must keep written justification documenting the analysis on file for an adequate period of time.

1.9 What are the general recreation guidelines for the System? Hunting, fishing, wildlife observation, wildlife photography, environmental education, and interpretation are priority wildlife-dependent recreational uses of the System. Refuge managers must facilitate wildlife/outdoor experiences that provide visitors with high quality experiences and help them understand and appreciate the value of the individual refuge and its role in the System. Refuge managers must analyze the effects of the priority wildlife-dependent recreational uses and must, unless there is a valid reason not to, provide for those priority uses determined to be compatible. Not all refuges will be able to support each, or even any, of the six priority wildlife-dependent recreational uses. If it is determined that a refuge can support one or more of these uses, the priority wildlife-dependent recreational use must receive preferential consideration in refuge planning and management before the Refuge Manager analyzes other appropriate recreational opportunities. These uses provide opportunities for visitors to become interested in and enjoy quality wildlife/outdoor experiences and learn about, understand, and support resource management programs. Refuge managers should produce programs that not only inform visitors about the System but emphasize the specific role of the individual refuge. Refuge managers should explore partnerships with Federal, State, Tribal, and local agencies to enhance wildlife-dependent recreation programs. Refuge managers should look for ways to encourage priority wildlife-dependent recreation uses, however, if little or no demand exists for a priority use, we do not require Refuge managers to provide that use. The following general guidelines apply to recreation management throughout the System:

A. Recreational uses that enable priority wildlife-dependent recreational uses. Refuge managers may allow (with written justification) other compatible recreational uses that are necessary to facilitate the priority wildlife-dependent recreational uses. We can allow non-wildlife-dependent activities when needed to provide access to, help implement, or sustain a priority use when no other way is practicable. Refuge managers must determine the appropriateness as well as compatibility of such uses before allowing them to occur on System lands. For example, camping may be necessary to facilitate hunting on large remote refuges but may not be necessary to facilitate hunting on refuges near developed areas where camping or other lodging is available.

B. After hours recreational use. We may, on occasion, allow activities to occur on a refuge at night if it is appropriate and compatible with the purpose(s) of the refuge and the System mission. An example might be night fishing. Allowing night activities on the refuge often requires increased management and law enforcement capability, and the manager must consider these factors in assessing the effect of the action on wildlife goals and objectives. A use should not be allowed simply because it is a historical use.

C. Non-priority recreational uses. When considering non-priority public uses, Refuge managers must refer to the Appropriate Uses Chapter (603 FW 1).

D. Access to sacred sites. Refuge managers will accommodate access to and ceremonial use of sacred sites by religious practitioners of recognized Native American Tribes and Native Hawaiians in accordance to Executive Order 13007 or 614 FW 1-5. Refuge managers, with help from their regional cultural resource staff, must familiarize themselves with Executive Order 13007, which clarifies and highlights procedures to execute this policy. Refuge managers should understand that these sites are sensitive, and allowing uncontrolled access by the general public to them is unacceptable. Refuge managers must ensure the physical integrity of the sites, including maintaining appropriate location confidentiality. Refuge managers will utilize formal agreements to outline the responsibilities of all parties involved in implementing the Executive Order.

1.10 Are there general criteria that we can use to decide which recreational activities to allow? The following general criteria will help Refuge managers decide what recreational activities to allow, encourage, or develop, and at what level. Refuge managers must eliminate, with adequate consultation, documentation and cooperation with affected Federal, State, Tribal, local authorities, and groups, programs that do not meet these criteria.

A. Ensure appropriateness. Refuge managers, in consultation with Regional Offices when deemed necessary, must first consider if a use is appropriate on System lands. Refuge managers must be able to show why the requested use supports the System mission and the purpose of the refuge before investing additional resources for a compatibility determination.

B. Ensure compatibility. Refuge managers must:

(1) Exercise sound professional judgment. Compatibility determinations are inherently complex and require the Refuge Manager to consider their field experiences and knowledge of a refuge's resources, particularly its biological resources, and make conclusions that are consistent with principles of sound fish and wildlife management and administration, available scientific information, and applicable laws.

(2) Consider the extent to which available resources (funding, personnel, and facilities) are adequate to develop, manage, and maintain the proposed use so as to ensure compatibility. The Refuge Manager must make reasonable efforts to ensure that the lack of resources is not an obstacle to permitting otherwise compatible wildlife-dependent recreational uses (hunting, fishing, wildlife observation, wildlife photography, environmental education, and interpretation).

(3) Under no circumstances (except emergency provisions necessary to protect the health and safety of the public or any fish or wildlife population) authorize any use not determined to be compatible.

C. Focus on wildlife. Wildlife conservation is the first priority of the System, and new and ongoing recreational use programs should help visitors focus on wildlife and other natural resources. Activities should make visitors aware of the most important resource issues at the refuge, be supportive of management plans that address those issues, and show how the refuge contributes to the mission of the System.

D. Tailor programs to refuge needs and ability to administer the program. Refuge Managers will determine and document:

(1) The design and scope of a refuge recreational use program after evaluating the wildlife-dependent uses that are appropriate, compatible, and practical at that refuge; the amount and type of visitation; constraints of the location; traditions/viewpoints of the local populace; legal commitments; other opportunities in the area; public interest; resource management concerns; and other criteria.

(2) A realistic demand for the activity. This is important because activities generally are harder to curtail or stop than to begin. Refuge Managers must have an eye to the future and be ready for possible changes in staffing, funding, or other program elements that may occur.

E. Follow an approved plan. Before administering priority uses or identifying and allowing mandated or non-priority uses at a refuge, the Refuge Manager should consult the refuge's CCP, visitor service management plan, and other applicable step-down plans. The documents will outline program objectives and other specific information that will provide the guidance needed to manage these activities.

F. Ensure adequate resources. Refuge managers will:

(1) Offer wildlife-dependent recreational use programs only to the extent that staff and funds are sufficient to develop, operate, and maintain the program to safe, high quality standards. Refuge managers should remember that, in general, the greater the scope and complexity of a program, the greater the need for staff and money. Where wildlife-dependent recreational uses cannot occur at a refuge due to insufficient resources, Refuge managers will try to facilitate these programs through user fee programs and cooperative efforts, including memorandums of understanding, cost share agreements, sharing personnel with nearby refuges, and others. Conservation partnerships or other groups can help Refuge managers more effectively finance and administer recreational use programs on refuges by providing labor, funds, or other types of support. Where available and appropriate, Refuge managers should work with cooperating associations, volunteers, contractors, businesses, local communities, educational institutions, State and Tribal governments, other Federal agencies, conservation groups, other organizations, and the public, to minimize or reduce the costs of conducting recreational use programs. The community relations benefits of such an approach are effective and far-reaching.

(2) Seek opportunities to develop formal agreements, contracts, cooperative ventures, and community sponsorships to fund equipment and supplies, maintain facilities, conduct training, provide technical assistance, and help with other aspects of a quality recreational use program. Refuge managers should not enter into agreements that unnecessarily encumber lands and facilities or hinder meeting resource management objectives at the refuge.

1.11 Have we identified visitor service requirements on refuges? Yes. Service employees, volunteers, concessionaires, and other cooperators should conform to the following standards in planning, conducting, and evaluating all visitor services activities and facilities at refuges. These standards replace those outlined in the Public Use Minimum Requirements Handbook adopted by the Service in 1984.

A. Requirement 1. Develop a Visitor Services Plan. Through CCP's and visitor services plans, we will set goals, determine measurable objectives, identify strategies, and establish evaluation criteria for all visitor services. Careful planning provides the visiting public with opportunities to enjoy and appreciate fish, wildlife, and plants and other resources. As a result, the visiting public will develop an understanding and will build an appreciation of each individual's role in the environment today and into the future.

B. Requirement 2. Welcome and Orient Visitors. We will assure that national wildlife refuges are welcoming, safe, and accessible. We should regularly schedule some refuge staff to work weekends, and holidays (except Thanksgiving, Christmas, and New Years Day) and other anticipated periods of high public recreational use. We will provide visitors with clear information so they can easily determine where they can go, what they can do, and how to safely and ethically engage in recreational and educational activities. Facilities will be high quality, clean, well-maintained, and accessible. We will treat visitors with courtesy and in a professional manner.

C. Requirement 3. Provide quality hunting opportunities. Hunting is an appropriate use of wildlife resources of the System when compatible. Hunting programs will be of the highest quality, conducted in a safe and cost-effective manner, and, to the extent practicable, carried out in accordance with State regulations. (Reference 605 FW 2).

D. Requirement 4. Provide quality fishing opportunities. Fishing is an appropriate use of wildlife resources on units of the National Wildlife Refuge System when compatible. Fishing programs will be of the highest quality, conducted in a safe and cost-effective manner, and, to the extent practicable, carried out in accordance with State regulations. (Reference 605 FW 3).

E. Requirement 5. Provide quality wildlife observation and wildlife photography opportunities. Wildlife observation and wildlife photography (reference 605 FW 4 and 605 FW 5 respectively) are appropriate wildlife-dependent recreational uses of System lands when compatible. Visitors of all ages and abilities will have an opportunity to observe and photograph key wildlife and habitat resources of the refuge. Viewing and photographing wildlife in natural or managed environments will foster a connection between visitors and natural resources.

F. Requirement 6. Develop and implement a quality environmental education program. Through formal, curriculum-based environmental education tied to national and State education standards, we will advance public awareness, understanding, appreciation, and knowledge of key fish, wildlife, plant, and resource issues. Each refuge staff person will assess their potential to work with schools in providing an appropriate level of environmental education. We may support environmental education through the use of facilities, equipment, educational materials, teacher workshops, and study sites that are safe and conducive to learning. (Reference 605 FW 6).

G. Requirement 7. Interpret key resources and issues. We will communicate the most important fish, wildlife, habitat and other resource issues to visitors of all ages and abilities through effective interpretation. We will tailor messages and delivery methods to specific audiences and present them in appropriate locations. Through heightened awareness, we will inspire visitors to take positive actions supporting refuge goals and the System mission. (Reference 605 FW 7).

H. Requirement 8. Manage for appropriate recreational opportunities. The National Wildlife Refuge System Administration Act as amended by the National Wildlife Refuge System Improvement Act of 1997 states that compatible wildlife-dependent recreational uses are the priority public uses of the National Wildlife Refuge System (hunting, fishing, wildlife observation, wildlife photography, environmental education, and interpretation) and will receive enhanced consideration over other general public uses. Volunteers, partners, recreation fees and concessions are tools available to assist us in managing these uses. We will only permit other uses when we determine that they are legally mandated, provide benefits to the Service, occur due to special circumstances, or facilitate one of the priority wildlife-dependent recreational uses. (Reference 605 FW 1).

I. Requirement 9. Communicate key issues with off-site audiences. Effective outreach depends on open and continuing communication between the refuge and the public. This communication involves determining and understanding the issues, identifying audiences, crafting messages, selecting the most effective delivery techniques, and evaluating effectiveness. Achieved results will further the mission of the System and purpose(s) of the refuges. See the National Outreach Strategy: A Master Plan for Communicating in the U.S. Fish and Wildlife Service, and America's National Wildlife Refuge System: 100 on 100 Outreach Campaign.

J. Requirement 10. Build volunteer programs and partnerships with refuge support groups. Volunteer and refuge support groups fortify refuge staffs with their gift of time, skills, and energy and are integral to the future of the System. Refuge staff will initiate and nurture relationships with volunteers and refuge support groups, and will continually support, monitor, and evaluate these groups with the goal of fortifying important refuge activities. The National Wildlife Refuge System Volunteer and Community Partnership Enhancement Act of 1998 (P.L. 105-242) strengthens the System's role in developing effective partnerships with various community groups. Whether through volunteers, refuge support groups, or other important partnerships in the community, refuge personnel will seek to make the refuge an integral part of the community, giving rise to a stronger System.

Draft Hunting Policy

Fish and Wildlife Service

Priority Wildlife-Dependent Recreation

Part 605 Fish and Wildlife Service Manual

Chapter 2 Hunting 605 FW 2.1

2.1 What is the purpose of this chapter? This chapter provides the Fish and Wildlife Service's (Service) policy governing the management of recreational hunting on units of the National Wildlife Refuge System (System or we).

2.2 To what programs does this chapter apply? The policies contained in this chapter apply to recreational hunting within the System. Refer to other chapters or regulations governing policies and procedures addressing related activities such as guiding (604 FW 7) and field trials (631 FW 5).

2.3 What is our policy on hunting on refuge lands? The overarching goal of our priority public use policies is to enhance opportunities and access to high quality visitor experiences on national wildlife refuges while not compromising wildlife conservation. We recognize hunting as a healthy, traditional outdoor pastime, deeply rooted in American heritage, and when managed appropriately, can instill a unique understanding and appreciation of wildlife, their behavior, and their habitat needs. Hunting also is an important wildlife management tool on refuges. Hunting is a legitimate and appropriate public use of the System, and along with the five other priority public uses in the Refuge Improvement Act, will receive enhanced consideration over other uses. This means we will invest our resources and imagination in providing high quality hunting experiences for refuge visitors. When determined to be compatible, refuge managers are strongly encouraged to provide public hunting opportunities. Hunting programs will promote understanding and appreciation of natural and cultural resources and their management on all lands included in the System. We rely on close cooperation and coordination with State fish and wildlife management agencies in managing hunting opportunities on refuges and in setting refuge population management goals and objectives. Regulations permitting hunting of resident wildlife within the System shall be, to the extent practicable, consistent with State fish and wildlife laws, regulations, and management plans. We encourage refuge staff to develop and take full advantage of opportunities to work with other partners who have an interest in helping us promote high quality hunting programs on refuges.

2.4 What are the objectives for our hunting programs? The objectives of the System hunting program are to promote public understanding of and increase public appreciation for America's natural resources, to manage wildlife populations at optimum levels, and to provide opportunities for high-quality recreational and educational experiences.

2.5 What are the authorities that allow hunting on the System? Refer to 605 FW 1 for laws that govern hunting on System lands.

2.6 Do we have common definitions for hunting terms? Yes. The following are definitions of terms used in reference to hunting.

A. Open to the public. Open to public hunting means we allow individuals who hold, if required, valid licenses, permits, stamps or other documents to enter and take specific wildlife species. Areas open to hunting may differ from areas open to the general public for other recreational activities. We note this distinction on signs and in outreach materials, such as general refuge or hunting brochures.

B. Quality hunting experience. A quality hunting experience is one that:

(1) Maximizes safety for hunters and other visitors;

(2) Encourages the highest standards of ethical behavior in taking or attempting to take wildlife;

(3) Is available to a broad spectrum of the hunting public;

(4) Contributes positively to or has no adverse affect on population management of resident or migratory species;

(5) Reflects positively on the individual refuge, the System, and the Service;

(6) Provides hunters uncrowded conditions by minimizing conflicts and competition among hunters;

(7) Provides reasonable challenges and opportunities for taking targeted species under the described harvest objective established by the hunting program. It also minimizes the reliance on motorized vehicles and technology designed to increase the advantage of the hunter over wildlife;

(8) Minimizes habitat impacts;

(9) Creates minimal conflict with other priority wildlife-dependent recreational uses or refuge operations; and

(10) Incorporates a message of stewardship and conservation in hunting opportunities.

C. Special weapons hunts. Special weapons hunts limit the choice of weapons individuals can use in the field to take big game (e.g., elk, deer). Bows, shotguns, and black powder guns may be classified as special weapons. We generally authorize special weapons hunts with appropriate conditions, such as “Archery Only,” “Primitive Weapons Only,” or “Shotgun Only,” unless these hunts are spatially separated by season.

D. Inviolate sanctuaries. A national wildlife refuge, or portions thereof, acquired or established in one of the following ways:

(1) Acquired with the approval of the Migratory Bird Conservation Commission (MBCC) for the purpose of an inviolate sanctuary;

(2) Established by an instrument or document that states that we intend to manage the area as an “inviolate sanctuary for migratory birds” or to fulfill the purpose of the Migratory Bird Conservation Act.

E. Tournament hunting. A hunting competition for monetary or other prizes, such as a “Big Buck” contest.

2.7 When do we address the decision to allow hunting for proposed additions to the National Wildlife Refuge System? When lands and waters are under consideration for addition to the System, the Refuge Manager will make an interim compatibility determination on any existing priority public uses. The record of decision establishing or expanding hunting on the refuge must document the completion of such determinations. The results of these determinations are in effect until the completion of a Comprehensive Conservation Plan (CCP). It is during the development of the CCP and implementation of the National Environmental Policy Act (NEPA) that we accept and incorporate public comments into the hunting decision on the refuge.

2.8 How do we open System lands to hunting? The decision to open a refuge to hunting depends on the provisions of laws and regulations applicable to the specific refuge and a determination by the Refuge Manager that opening an area to hunting will be compatible. This decision must also be consistent with the principles of sound wildlife management, applicable wildlife objectives, and otherwise be in the public interest (see 50 Code of Federal Regulations (CFR) 32.1).

A. Specific conditions. The following conditions apply to hunting on certain units of the System.

(1) Inviolate sanctuaries. We may allow hunting of migratory game birds on no more than 40 percent of the total area unless the Secretary finds that taking of any such species in more than 40 percent of such area would be beneficial to the species (NWRSAA). If we open only 40 percent of an inviolate sanctuary to migratory bird hunting, the opened area could conceivably contain 100 percent of the habitat for migratory birds and comply with the law. However, we must first determine if the proposal is compatible with the purposes of the refuge and the System mission. Before we can open more than 40 percent of an inviolate sanctuary to hunting, we must publish the reasons for doing so in the Federal Register. Because of this requirement, the Director, under delegation from the Secretary, must approve all proposals to open more than 40 percent of an inviolate sanctuary to migratory bird hunting. Regional Directors retain the authority to open more than 40 percent of areas on refuges that are not inviolate sanctuaries. Refuge managers must carefully evaluate all such proposals to ensure the proposed action will be compatible. Inviolate sanctuary classification imposes no limits on hunting non-migratory birds or other game species.

(2) Waterfowl Production Areas (WPAs). WPAs are open to hunting in accordance with State law (50 CFR 32.1) as long as it is compatible. A hunting plan or rulemaking document is not necessary to open these areas to hunting. We may restrict WPA hunting programs and under 50 CFR 32.1, we may also close WPAs to hunting and other public use if circumstances warrant.

(3) Wetland easements. We have no authority over hunting on wetland easements, which we most often acquire as part of the Small Wetland Acquisition Program, unless we purchased specific rights with the easements. For these easements, the landowner has usually retained all rights to control public access, including for hunting and other recreational uses.

(4) Easement refuges. The rights acquired with the individual easement refuge determines our control of hunting on easement refuges. The Regional Director is responsible for determining the extent of our control over hunting on these areas. If we control hunting, the Refuge Manager must follow all procedures required to open a refuge to hunting.

(5) Farm Service Agency Easements formerly Farmers Home Administration (FmHA)). We have no authority over hunting or other forms of public use on easements obtained through the various Farm Service Agency inventory property easement programs of 1985, 1990, and 1996. The landowner retains the right to control access for hunting and other recreational uses.

(6) National wildlife refuges in Alaska. The Alaska National Interest Lands Conservation Act (ANILCA) (16 U.S.C. 410hh-3233 and 43 U.S.C. 1602-1784) opens all national wildlife refuges in Alaska to hunting under applicable Federal and State law as long as it is compatible (50 CFR 36.32). A hunting plan or rulemaking document is not necessary to permit hunting on these refuges. We may prohibit or restrict the taking of wildlife only in conjunction with notices and hearings under the requirements of 50 CFR 36.42 regarding public participation and closure procedures. Local rural residents may hunt wildlife for subsistence uses in compliance with applicable Federal and State laws. Under ANILCA, non-wasteful subsistence use of wildlife by rural residents has priority over other consumptive uses permitted on national wildlife refuges in Alaska.

B. Evaluation criteria for hunting programs. We will use the following criteria and standards to evaluate hunting programs on units of the System:

(1) Compatibility. A hunting program must be compatible with the purpose(s) of the refuge and the System mission.

(2) Biological integrity, diversity, and environmental health. We maintain, or contribute to the maintenance of, populations of native species. We design our wildlife population management strategies to support accomplishing refuge purposes while maintaining or restoring biological integrity, diversity, and environmental health (see 601 FW 3). We formulate refuge goals and objectives for population management by considering natural densities, social structures, and population dynamics at the refuge level and population objectives set by national plans and programs—such as the North American Waterfowl Management Plan—in which the System is a partner.

(3) Relationship with other public use programs. An integrated approach to providing opportunities for compatible wildlife-dependent recreational uses will minimize conflicts between individuals participating in these uses. We will evaluate time and space scheduling and zoning as methods to ensure opportunities for quality experience among different user groups.

(4) Resources. Providing quality recreational experiences for the public requires appropriate funding, facilities, and staff. The House Report accompanying the House of Representatives version of the National Wildlife Refuge System Improvement Act of 1997 (H. Rpt. 105-106) encourages refuge managers to take reasonable steps to obtain outside assistance from States and other conservation interests, if adequate financial resources are not available to manage a priority use in a compatible manner. Refuge managers should work closely with State, community, and conservation partners to help obtain necessary resources to manage the priority wildlife-dependent recreational use programs. Potential sources of support include the following: hunting organizations, user fees for hunting; cooperating with State, local, or Tribal agencies; and assistance from refuge support groups or volunteers. We encourage refuge managers to seek and implement other opportunities to obtain additional resources as they become available.

(5) Evaluation and monitoring. Refuge managers must monitor and evaluate their hunting programs regularly. Refuge managers should evaluate both the quality of the recreation experience and the effects of the activity on refuge resources. A wide variety of evaluation tools exist, from simply asking the hunting public how they rate their experience to contracting with a university or private company to conduct a formal survey. If a Refuge Manager decides to use a survey to evaluate the hunting experience, he or she must receive approval from the Office of Management and Budget on the information collection process before conducting any public surveys.

C. Consultation and coordination. (1) Coordination with states. When a refuge, or portion thereof, is open to hunting, we allow hunting within the framework of applicable State regulations. We consult with the State, Tribes, and other appropriate authorities during the development of hunting programs and whenever we plan significant changes. Refuge regulations must be consistent with State regulations, to the extent practicable. The use of more restrictive regulations requires consultation with the State. We must list regulations that are more restrictive than State regulations, such as seasons and fishing hours as refuge-specific regulations in 50 CFR part 32. Refuge-specific regulations must not weaken existing State laws and regulations. We must justify deviations from State regulations in the refuge hunting plan or amendments to that plan.

(2) Endangered species consultation. We will review all hunting programs annually to determine if they may affect, adversely or beneficially, threatened or endangered species and their habitats. The Refuge Manager will initiate consultation as appropriate, under Section 7 of the Endangered Species Act and intra-Service consultation procedures.

(3) Public involvement. The appropriate level of public involvement must accompany new or significant changes to existing hunting programs. Refuge managers must plan efforts well in advance of the proposed changes in order to obtain as much involvement from groups and individuals as possible. A variety of methods are available for the Refuge Manager to use to involve and inform the public, including public meetings, workshops, news releases, and mailings to interested groups. We encourage refuge managers to continue to use these and other methods. We require an outreach plan developed in coordination with Regional External Affairs Offices for new hunting programs or any major changes affecting existing programs.

D. Documentation required to open a refuge to hunting. The Refuge Manager must submit the following documents to the appropriate staff in the Regional Office to open a refuge to hunting. The Regional Office then forwards a copy of these documents to the National Wildlife Refuge System Headquarters for preparation of a rulemaking document.

(1) Step-down hunting plan. This plan should be a step-down plan of the refuge's CCP which must include a compatibility determination on the hunting program. If the unit has not yet completed a CCP, the step-down hunting plan must contain a compatibility determination until the CCP is completed. The hunting plan should be an appendix to the overall plan for providing public uses on refuges. The plan will provide documentation of the hunting allowed on a refuge, including the relationship of hunting to refuge purpose(s), goals, and objectives and the System mission. The suggested format for a refuge hunting plan is labeled as Exhibit 1 in this chapter.

(2) Appropriate NEPA documentation.

(3) Appropriate decision documentation.

(4) Section 7 evaluation. (See Exhibit 2 for information on Section 7 evaluation.)

(5) Copies of letters requesting State, and, where appropriate, tribal involvement and the results of the request.

(6) Draft news release.

(7) Outreach plan. (We label a Directorate-approved outline for an Outreach Plan as Exhibit 3.)

2.9 Who prepares and reviews a refuge hunting plan? The Refuge Manager, with technical assistance as needed from the Regional Office and State and Tribal wildlife agencies, is responsible for preparation of the hunting plan. The Regional Director approves the plan before the rulemaking process begins. The Regional Office sends copies of the approved hunting plans to Headquarters (including the approved outreach plan) for concurrence. During the rulemaking process, Headquarters staff use the hunting plan as reference material and supporting documentation. The Refuge Manager must annually review hunting plans for each refuge where we allow hunting. The Refuge Manager must refer to this plan in the Refuge Public Use Plan or CCP and provide overall documentation of the hunting allowed on a refuge.

2.10 What information do we need for publication in the Federal Register? The Refuge Manager must submit information about what species we propose to open for hunting and the conditions of the proposed hunt once we determine the proposal to be compatible and document the results in an approved hunting plan. The Regional Liaison must forward copies of this information to the Federal Register Liaison at Headquarters for the development of the proposed and final refuge-specific regulations (codified in 50 CFR), which we publish in the Federal Register. If a Refuge Manager proposes to open more than 40 percent of an inviolate sanctuary to migratory game bird hunting, we must also publish the justification in the Federal Register.

2.11 What is the refuge-specific regulations process? The refuge-specific regulation process is outlined below:

A. Headquarters must publish in the Federal Register, proposed refuge-specific regulations pertaining to a refuge's hunting program that are necessary to conduct that program prior to them becoming effective. Refuge managers must forward all refuge-specific regulations through appropriate channels to Headquarters for clearance and submission to the Federal Register. The refuge is open to hunting officially after the effective date of the final rule. Hunting can begin concurrently with or after the opening of the State season.

B. Refuge managers must review these regulations and the refuge hunting plan annually to ensure compatibility and consistency of the hunting program with existing laws and regulations. Refuge managers must submit any amendments (additions, deletions, or modifications) each year to the designated regional hunting and fishing program coordinator who, in turn, sends that information to Headquarter's Federal Register Liaison for inclusion in the rulemaking documents for publication in the Federal Register. Headquarter's Federal Register Liaison must receive this information by January 31 each year to allow sufficient time for compilation and review by concerned program offices and the Solicitor, signature by the Assistant Secretary, and the Departmental review for both proposed and final rules. This includes a 30-day public comment period on the proposed rule. We cannot publish a refuge opening without the complete hunting package. If no amendments are necessary, refuge managers should submit a negative response to that effect to the Regional Office (to the attention of the hunting and fishing program coordinator). Refuge-specific regulations should be standard and consistent in format throughout the System. We include guidelines for preparing and submitting regulations and amendments in Exhibit 4.

2.12 How do we revise a hunting plan? The Refuge Manager may approve all revisions in hunting plans except major revisions. Major revisions in hunting plans (e.g., addition of big game to a hunting program, designating hunts for special weapons use only) must occur as an amendment to the hunting plan unless the original plan included specific conditions under which that revision could occur. The preparation and approval of amendments follows the same guidelines as preparation and approval of the original plan. Submit only the revised portion of the plan for approval to the Regional Office. The Regional Director approves revisions only when Headquarters has already listed the refuge in 50 CFR as open to that particular category of hunting. Otherwise, refuge managers must submit the amended hunting plan for rulemaking. Opening a refuge to new categories requires the appropriate National Environmental Policy Act (NEPA) findings.

2.13 What are the guidelines for refuge hunting programs? We should plan, manage, conduct, and evaluate refuge hunting programs on a consistent basis in ways that ensure hunter and visitor safety, and promote positive values such as fair chase, high ethical standards, and respect for the resource. Hunting on refuges must have the attributes of a quality hunt as defined in section 2.6B. The following guidelines should help ensure quality opportunities are available.

A. Permits. We require hunters to have all applicable Federal, State, and Tribal licenses or stamps in their possession. We can issue refuge permits to limit participation or gather information. If we use refuge permits to limit hunter numbers, we will issue them on a random basis to the public. Refuge managers should avoid complicated application processes that require additional resources. Application processes should be flexible to provide an opportunity to all potential hunters. Under ANILCA, qualified rural subsistence hunters are given a preference to harvest game on Alaska refuges as outlined by the rules and regulations established by the Federal Subsistence Board. We should coordinate with Tribal and State application and lottery processes where practicable.

B. Fees. The Refuge Manager makes the decision to charge a fee in coordination with the Regional Office. We have the authority to charge fees for applications, refuge permits, and the use of facilities (i.e., hunting blinds) under existing recreation fee programs. We use fees collected for visitor service enhancement projects, and resource protection. The authority under which we collect fees contains stipulations on how we may reinvest the monies. The Regional Fee Coordinator can assist with the approval of fees as well as provide information on the appropriateness of fund distribution.

C. Zoning recreational use. We desire a balanced hunting program that allows a variety of quality hunting opportunities. For example, designating areas for youth hunts, establishing areas that provide access for hunters with disabilities, establishing “special weapons” areas, designating areas for seasonal or daily closures for consumptive and non-consumptive use, designating areas for non-motorized boat use, and establishing areas where hunters use methods to reduce crippling loss, help us achieve a balanced hunting program and increase the quality of the experience. We can also use zoning to reduce conflicts between hunters and other users.

D. Law enforcement. Law enforcement is an important part of any hunting program. It is used to ensure legal and equitable utilization of fish and wildlife resources on refuges, as prescribed by law. Law enforcement is also used to obtain compliance with laws and regulations necessary for proper administration, management, and protection of the System. The effort invested should be sufficient to protect human safety, wildlife populations, and ensure compliance with regulations based on past experiences and current circumstances.

E. Hunter access and vehicle control. Refuge managers must carefully plan, manage, and evaluate access and vehicle control to retain high levels of undisturbed opportunities. Refuge managers should strongly encourage those opportunities not dependent upon the use of motorized vehicles. We can make exceptions to general access restrictions for hunters with disabilities when necessary to facilitate their experience, and when compatible with resource management objectives. For example, refuge managers may issue special use permits to hunters with certain disabilities for access to hunt blinds, or retrieval of downed game. Refuge managers could require specific physician's documentation before providing the disabled hunter a special use permit.

F. Camping. We may allow camping on refuges when it is necessary to support hunting opportunities. Camping is appropriate only when no reasonable (based on time, distance and expense) lodging opportunities are available off-refuge and when staff resources needed to manage camping do not detract from the quality of another priority wildlife-dependent recreational use. Large refuges in the western United States, refuges in Alaska, and some remote refuges allow camping under this criteria. See the Appropriate Refuge Uses chapter (603 FW 1) for additional information.

G. Hunting by service staff. Service employees are subject to the same rules and regulations as the general public. If only limited hunting opportunities exist, refuge managers should discuss with Service employees the need to be sensitive to the possibility of the public perception of conflict of interest. We never authorize Service employees to wear uniform components outside of their official capacity. When employees participate in off-duty hunting opportunities, they are not authorized and, therefore, should never wear uniform components (e.g., uniform ball caps, uniform jeans). When Service employees actively participate in assigning limited hunting permits, they will not participate in that particular hunt on those affected refuge lands. In addition, personnel may not use means of access to hunt in areas that are not available to the general public.

H. Communication materials. Professionally developed outreach materials will benefit refuge managers by providing clear and thorough information to hunters. Brochures must conform with the U.S. Fish and Wildlife Service Graphics Standards and be consistent with refuge-specific regulations. Contact your Regional Publications Coordinator for graphic standards. Refuge managers do not need to include regulations and dates that are identical to State seasons. Include information that encourages hunters to hunt safely and ethically. We encourage refuge managers to use electronic media, such as the Internet, to distribute information. Refuge managers should work with Regional Office staff to provide information on standards and guidelines for all communications materials.

I. Equipment. Refuge managers may place limits on certain equipment such as decoys, boats, tree stands, and type of firearm or ammunition if they determine that such limits reduce crippling loss, resource damage, hunter conflicts, or improve the quality of the hunt.

J. Boundary hunting. We discourage boundary hunting adjacent to closed areas of refuges. We can alter boundary lines or habitat, or eliminate parking areas and access roads, to distribute hunters or modify wildlife use patterns in ways that make boundary hunting less appealing. Refuge managers must use retrieval zones sparingly and only to prevent waste by allowing the retrieval of dead or crippled game. Prior to establishing these zones, managers should consider adjusting hunt boundaries as well as the cost of signing and enforcing restrictions. Limit the entry of hunters into closed areas wherever possible. Retrieval of big game may require entry, with permission, into closed areas.

K. Check stations. Use check stations only as a means to monitor the hunt, gather important information that we cannot obtain in a less expensive manner, or gather biological information about animal populations. Refuge managers should evaluate the continued use of check stations periodically to determine if there is a more cost-effective means of providing quality hunting services. Use permanent check stations only to control the hunting area access and not to enforce hunting regulations.

L. Data collection. Refuge managers should evaluate hunting programs to determine if we are meeting objectives. Refuge managers should consult with the State regarding data collection needs and survey methods.

M. Proficiency testing. Generally, we will not require mandatory testing or qualifications above State requirements. If a Refuge Manager wants to implement a proficiency test more restrictive than that required by the State, the Refuge Supervisor must approve the test. For example, if hunters were not allowed to take black ducks or mallard hens on a refuge but were permitted to take gadwalls, the hunter could be required to show proficiency in the identification of gadwalls and other waterfowl.

N. Hunting with dogs. The use of properly trained dogs is an important part of the American hunting tradition, enhances the quality of the hunting experience, and can reduce the loss of crippled game. We recognize the long relationship between dogs and hunters. However, in our effort to emphasize high-quality visitor experiences which minimize visitor use conflicts and wildlife disturbance, we must make distinctions between various uses of dogs for hunting. Not all uses of dogs for hunting will fit with System quality hunting experience goals.

We do not allow hunting dogs in areas closed to hunting or other public use and we only allow their use in the following circumstances:

(1) Retrievers. We encourage the use of trained retrieving dogs for waterfowl. Emphasize the value of trained retrievers in reducing the loss of downed birds in outreach materials promoting the hunting program.

(2) Pointing and flushing dogs. Typically, hunters use pointing and flushing dogs in pursuit of upland game birds. Well-trained pointing and flushing dogs enhance a hunting experience by creating more opportunities and finding and retrieving downed birds.

(3) Pursuit hounds. Refuge managers will carefully consider the impacts of the use of pursuit hounds on the refuge. When evaluating compatibility of hunting with pursuit hounds, a Refuge Manager will include the following discussion points in the compatibility determination:

(a) The likelihood of pursuit hounds injuring or annoying wildlife to such an extent as to significantly disrupt normal behavioral patterns of non target species;

(b) The likelihood of pursuit hounds interfering with the quality of the experience of other refuge visitors;

(c) The likelihood of pursuit hounds venturing out of open hunting areas and entering closed areas or adjacent private lands; and

(d) The effects of pursuit hounds ranging out of the hunter's control and being left on the refuge for an extended period of time.

O. Special weapons hunts. We offer hunting opportunities to as broad a spectrum of the public as possible. Consider special weapons hunts, as defined in section 2.6C, under some of the following conditions:

(1) Safety. Extremely dense cover, agricultural fields, or other vegetation characteristics may create situations where rifles are not appropriate. Configuration of hunt areas, such as long, narrow corridors or occupied inholdings, may also create situations where we should only allow specific weapons due to safety considerations.

(2) Limited harvest. In cases where there are relatively low populations or other limited harvest opportunities, offering special weapons hunts could be a method to provide hunting opportunities where they would otherwise not exist.

(3) State seasons for special weapons. In some States, the State designates separate seasons for specific weapons. When the State conducts archery, black powder, and other special seasons, it may be appropriate for refuge hunts to accommodate them. The decision as to whether a special weapons hunt approved by the State is compatible on the refuge lies with the Refuge Manager.

P. Falconry. If falconry is deemed appropriate and compatible on the refuge, it must be conducted under applicable Federal, State, and Tribal regulations. Refuge managers should consider:

(1) Will the refuge falconry hunting area provide a quality and safe falconry experience? For example, is the area large enough for a raptor to fly, stoop, and capture prey and be unobstructed by barbed wire fences or power lines?

(2) Will endangered or threatened species be harassed (see 50 CFR 17.11)?

(3) Will falconry negatively impact adjacent land uses (e.g., a nearby poultry farm) or will adjacent land uses affect the falconry on the refuge (e.g., a neighboring race track)?

Q. Nontoxic shot. Hunters may possess only nontoxic shot that conforms with the standards identified in 50 CFR 32.2(k) while hunting with shotguns or muzzle loaders on WPA's, or on certain other areas of the System. This regulation does not apply to turkey and deer hunters using buckshot or slugs, except as specifically limited by refuge-specific regulations.

R. Night hunting. We allow night hunting when it is appropriate and compatible with the purpose(s) of the refuge and the mission of the System. If a refuge is generally not open after sunset, refuge managers may make an exception and allow night hunting. Refuge managers must base the decision on specific refuge objectives and not historical use. Reference the General Recreation Guidance Chapter, 605 FW 1, for additional information about after-hours activities.

S. Tournament hunting. We prohibit this type of hunting on System lands and waters unless we make a specific determination that the event builds appreciation for and an understanding of fish and wildlife resources, does not reasonably interfere with other refuge visitors, and if prizes of only nominal value are awarded. Refer to the Appropriate Uses Chapter (603 FW 1) for additional discussions of competitive events.

T. Youth hunting. We encourage refuge managers to set aside areas or times to promote hunting by children or under represented groups. Experiencing hunting in a safe environment and exposure to proper hunting methods is important to developing life skills and public support for healthy ecosystems. Refuge managers should take advantage of these opportunities to educate young hunters and their parents about the importance of wildlife management.

2.14 How do we close a refuge to hunting? The Refuge Manager may close all or any part of a refuge that we have opened to hunting whenever necessary to protect the resources of the area or in the event of an emergency endangering life, property, or any population of wildlife, fish or plants (50 CFR 25.21).

A. Emergency closure. We do not require advance public notice for closure under emergency conditions. We will notify the public of such closures by signs, special maps, or other appropriate methods.

B. Non emergency closure. We will evaluate non-emergency closure of a refuge hunting program for impacts on wildlife populations, ecosystems, and priority recreation uses. If the impacts are likely to be major or controversial, we will prepare an environmental assessment and follow the public participation process identified in the National Environmental Policy Act (NEPA). We will evaluate the impacts of the decisions and give appropriate notification to the public. In Alaska, temporary closures or restrictions relating to the taking of wildlife will not be effective prior to the notice and hearing that we will conduct for an emergency closure in the vicinity of the affected area(s) and may not exceed 12 months.

Exhibit 1—Refuge Hunting Plan Format

I. Introduction

Include a general description of the refuge and information pertinent to the planned hunting program. If a Refuge Manager develops this hunting plan as a portion of an integrated public use plan, we may not require this information. Include non repetitive general information in the Comprehensive Conservation Plan.

II. Conformance with Statutory Authorities

Explain how the program will be compatible with the System mission, the goals and objectives of the refuge, and the purpose(s) for which the refuge was established. Include projections of the resources (staff and funding) needed to conduct the program and their sources. Include an explanation of how the program will address the requirements of applicable authorities.

III. Statement of Objectives

List the major refuge objectives and the specific objectives of the hunting program. Describe how hunting will impact the refuge objectives.

IV. Assessment

Evaluate the hunting resources on the refuge populations and habitats. Points to discuss include, but are not limited to, the following:

a. Will populations sustain hunting and still support other wildlife-dependent priority uses?

b. Do target species and other wildlife compete for habitat?

c. Do target species prey on other species at unacceptable levels?

V. Description

Describe the program in detail, using graphics as needed. The description should include:

a. Areas of the refuge that support target species.

b. Areas of the refuge to be opened to hunting.

c. Species designated for hunting and hunting periods.

c. Justification of permit system, if required.

d. Consideration of user fees.

e. Consultation and coordination procedures with States, including justification of refuge-specific regulations.

f. Methods of control and enforcement.

g. Staffing and funding needs.

h. Consideration of providing opportunities for hunters with disabilities.

VI. Measures Taken To Avoid Conflicts With Other Management Objectives

a. Biological conflicts. Include section 7 consultation, and other measures proposed to minimize or eliminate conflicts with endangered species or non target species.

b. Social conflicts. Include proposed measures that minimize or eliminate conflicts with other user groups.

VII. Hunt Specifics

a. Refuge-specific regulations.

b. Outreach plan.

c. Hunter application and registration procedures (if needed).

d. Description of hunter selection process (if needed).

e. Draft news release regarding the hunting program.

f. Description of hunter orientation, including pre hunt scouting opportunities.

g. Hunter requirements:

(1) State determined age requirement.

(2) Allowable equipment.

(3) Licensing and permits.

(4) Reporting requirements.

(5) Hunter training and safety.

(6) Other information (use of dogs, falconry, etc.)

VIII. Compatibility Determination

IX. Appropriate NEPA Documents

X. Evaluation

a. Monitoring and reporting use levels and trends.

b. Surveying needs of the hunting visitor.

c. Are we meeting program objectives?

d. Do we need to resolve any conflicts?

e. Refuge/Regional Office review schedule.

Exhibit 2—Priority Wildlife-Dependent Recreation (Hunting)

Use the following terminology for your Section 7 determination as to whether the opening of your refuge to hunting and/or fishing will affect the continued existence of any endangered or threatened species or result in the destruction or adverse modification of habitat of such species within the System.

Types of Effects

1. No effect: The appropriate conclusion when the Service determines that a proposed Service action will not affect a listed species or designated critical habitat.

2. Is not likely to adversely affect: The appropriate conclusion when effects on listed species are expected to be discountable, insignificant, or completely beneficial. Beneficial effects are contemporaneous positive effects without any adverse effects to the species. Insignificant effects relate to the size of the impact and should never reach the scale where take occurs. Discountable effects are those extremely unlikely to occur. Based on best judgment, a person would not (1) be able to meaningfully measure, detect, or evaluate insignificant effects; or (2) expect discountable effects to occur.

3. Is likely to adversely affect: The appropriate finding in a biological assessment (or conclusion during information consultation) if any adverse effect to listed species may occur as a direct or indirect result of the proposed Service action or its interrelated or interdependent actions, and the effect is not: discountable, insignificant, or beneficial (see definition of “is not likely to adversely affect”). In the event the overall effect of the proposed Service action is beneficial to the listed species but is also likely to cause some adverse effects, then the proposed Service action “is likely to adversely affect” the listed species. If incidental take is anticipated to occur as a result of the proposed action, an “is likely to adversely affect” determination should be made. This determination requires the initiation of formal intra-Service section 7 consultation (see definition of “informal intra-Service consultation”).

4. May affect: The appropriate conclusion when a proposed action may pose any effects on listed species or designated critical habitat. When the Federal agency (in this case the Service) proposing the action determines that a “may affect” situation exists, then the Service must initiate formal consultation or seek written concurrence from the involved Service programs that the action “is not likely to adversely affect” listed species.

5. Is likely to jeopardize proposed or candidate species/adversely modify proposed critical habitat: The appropriate conclusion when the Service identifies situations where the proposed Service action is likely to jeopardize the continued existence of a species proposed for listing or a candidate species, or adversely modify an area proposed for designation as critical habitat. If this conclusion is reached, intra-Service conference is required.

Types of Consultation

1. Formal intra-Service consultation: A process between a Service program authorizing an action and another Service program affected by that action that: (1) Determines whether a proposed Service action is likely to jeopardize the continued existence of listed species or destroy or adversely modify designated critical habitat; (2) begins with the Service program that authorizes the action providing a written request and submitting a complete initiation package to the affected Service program; and (3) concludes with the issuance of a biological opinion and incidental take statement by the affected Service program. If a proposed Service action may affect a listed species or designated critical habitat, formal intra-Service consultation is required (except when the involved Service programs concur, in writing, that a proposed action “is not likely to adversely affect” listed species or designated critical habitat). (50 CFR 402.02; 50 CFR 402.14)

2. Informal intra-Service consultation: An optional process that includes all discussions and correspondence between Service programs, prior to formal intra-Service consultation, to determine whether a proposed Service action may affect listed species or critical habitat. This process allows the Service to utilize its in-house expertise to evaluate a Service program's assessment of potential effects or to suggest possible modifications to the proposed action which could avoid potentially adverse effects. If a proposed Service action may affect listed species or designated critical habitat, formal intra-Service consultation is required (except when the involved Service programs concur, in writing, that a proposed action “is not likely to adversely affect” listed species or designated critical habitat). (50 CFR 402.02; 50 CFR 402.13)

Exhibit 3—Outreach Plan Summary

I. Issue: (State the issue in one or two sentences.)

II. Basic Facts About the Issue:

III. Communication Goals:

IV. Message:

V. Interested Parties:

VI. Key Date:

VII. Strategy:

Exhibit 4—Guidelines for Preparation of Refuge-Specific Hunting Regulations

Hunting regulations on national wildlife refuges accomplish three major purposes: They protect the resource, manage it, and ensure safety. State hunting regulations generally provide the framework for meeting these three criteria. When State regulations fall short of meeting these criteria, refuge-specific regulations are necessary. These regulations should focus primarily on management of the wildlife resource and should be enforceable. For example, if we require permits on a specific refuge, a statement that we require special refuge permits is all that is necessary. Details are not appropriate in the regulations. Address details in a leaflet or the permit application. Also, do not submit text for your refuge unless it represents a CHANGE to the existing language in part 32. If you are adding conditions to those already published, state that these are “adds” and indicate where you want them inserted in the text.

Duplications of existing 50 CFR provisions. When writing your regulations, check 50 CFR to avoid duplication. For example, in Part 27, Prohibited Acts, Section 27.31 restricts motor vehicles to “designated routes of travel. * * * delineated on maps by the Refuge Manager;” Section 27.81 adequately covers possession of alcohol; and Section 27.95 prohibits setting fires.

Duplication of State regulations. 50 CFR 32.2 (d) states “Each person shall comply with the applicable provisions of the laws and regulations of the State wherein any area is located unless further restricted by Federal law or regulation.” Therefore, do not repeat State bag limits, seasons, etc., in the refuge-specific regulations. Indicate differences in a cover memo that justifies differences and deviations.

Preparation of refuge-specific regulations. List shell limits, bag limits, seasons, and hours that differ from the State's in the refuge-specific regulations.

Use the following as an example for your submission for modifications to existing text:

Section 32.42 Minnesota.

Big Stone National Wildlife Refuge

B. Upland Game Hunting.

Replace the preamble to read as follows:

You may hunt partridge, pheasant, wild turkey, gray and fox squirrel, cottontail and jack rabbit, red and gray fox, raccoon, and striped skunk on designated areas of the refuge subject to the following conditions:

Add new conditions B.2. and B.3. to read as follows:

B.2. You may hunt fox, raccoon, and striped skunk only during open seasons for other small game species. You may not use dogs while raccoon hunting.

B.3. You may hunt turkey only if you have a valid State turkey hunting permit in your possession.

Use the following example for an addition of a refuge to part 32:

Section 32.20 Alabama.

Grand Bay National Wildlife Refuge

A. Hunting of Migratory Game Birds. We allow hunting of geese, ducks, and coots on designated areas of the refuge subject to the following condition: We require a refuge permit.

B. Upland Game Hunting. We allow hunting of squirrel and rabbits on designated areas of the refuge subject to the following condition: We require a refuge permit.

C. Big Game Hunting. We allow hunting of white-tailed deer on designated areas of the refuge subject to the following conditions: We require a refuge permit.

D. Sport Fishing. [Reserved]

Draft Recreational Fishing Policy

Fish and Wildlife Service

Priority Wildlife-Dependent Recreation

Part 605 Fish and Wildlife Service Manual

Chapter 3 Recreational Fishing 605 FW 3.1

3.1 What is the purpose of this chapter? This chapter provides the Fish and Wildlife Service's (Service) policy governing the management of recreational fishing on units of the National Wildlife Refuge System (System or we).

3.2 To what programs does this chapter apply? The policies contained in this chapter apply to recreational fishing on national wildlife refuges, waterfowl production areas, and coordination areas, which are all units of the System.

3.3 What is our policy on fishing on refuge lands? The overarching goal of our priority public use policies is to enhance opportunities and access to high quality visitor experiences on national wildlife refuges while not compromising wildlife conservation. We recognize fishing as a traditional outdoor pastime that is deeply rooted in America's natural heritage. Fishing is a legitimate and appropriate public use of the System, and along with the five other priority public uses in the Refuge Improvement Act, will receive enhanced consideration over other uses. This means we will especially invest our resources in providing high quality fishing experiences for refuge visitors. When determined to be compatible, refuge managers are strongly encouraged to provide to the public fishing opportunities. Our fishing programs will promote understanding and appreciation of natural and cultural resources and their management on all lands included in the System. The Service's Division of Fish and Wildlife Management Assistance and Habitat Restoration has many field offices with a broad range of expertise that are available to the Refuge Manager when planning and managing fishing programs. We encourage refuge managers to take advantage of this important resource. We rely on close cooperation and coordination with State fish and wildlife management agencies in managing fishing opportunities on refuges and in setting refuge population management goals and objectives. Regulations permitting fishing within the System shall be, to the extent practicable, consistent with State fish and wildlife laws, regulations, and management plans. We encourage refuge staff to take advantage of opportunities to work with other partners who have an interest in helping us promote high quality wildlife-dependent recreational programs on refuges.

3.4 What are the objectives for our fishing programs? The objectives of the System's fishing program are to: effectively maintain healthy and diverse fish population resources through the use of scientific management techniques; to promote public understanding of, and increase public appreciation for, America's natural resources and the Service's role in managing the System; to provide opportunities for high-quality recreational and educational experiences; and to minimize conflicts between anglers and other visitors.

3.5 What are the authorities that allow fishing on the System? Refer to 605 FW 1 for laws and Executive orders that govern fishing on System lands.

3.6 Do we have common definitions for fishing terms? The following are definitions of terms used in reference to fishing.

A. Open to the public. Open to the public for fishing means we allow fishing by any individual who holds, if required, a valid license, permit(s), stamp(s) or other document allowing the taking of a specific species of fish on System waters. Areas open to fishing may differ from areas open to the general public for other recreational activities. We note this distinction through the use of signs and outreach materials, such as general refuge brochures or fishing brochures.

B. Quality fishing experience. A quality fishing experience is one that contributes to management objectives and accomplishes the following:

(1) Maximizes safety for anglers and other visitors;

(2) Causes no adverse impact on populations of resident or migratory species, native species, threatened and endangered species, or habitat;

(3) Encourages the highest standards of ethical behavior in regard to catching, attempting to catch, and releasing fish;

(4) Is available to a broad spectrum of the public that visits, or potentially would visit, the refuge;

(5) Provides reasonable accommodations for individuals with disabilities to participate in refuge fishing activities;

(6) Reflects positively on the System;

(7) Provides uncrowded conditions;

(8) Creates minimal conflict with other priority wildlife-dependent recreational uses or refuge operation;

(9) Provides reasonable challenges and harvest opportunities; and

(10) Increases the visitors understanding and appreciation for the fisheries resource.

C. Native fisheries. Fish that, other than as a result of an introduction, historically occurred in a specific watershed. By “historically” we mean a period identified as time before European contact or settlement.

D. Tournament fishing. A fishing competition for monetary or other prizes.

E. Shellfish harvest. The recreational harvest of abalone, clams, crabs, crayfish, lobster, mussels, oysters, scallops, shrimp, or other marine and freshwater invertebrates.

F. Nontoxic tackle. A weighted tackle (jigs and sinkers) made of materials other than lead or lead alloys.

G. Nonnative/alien species. Any species, including its seeds, eggs, spores, or other biological material capable of propagating that species, that is not native to that ecosystem.

H. Set tackle. Any fishing hook(s), devices, or lines that are not hand held or not attached to a fishing rod, reel, or pool under the immediate control of the user (excludes rod and pole holders and ice fishing tip-ups). In general terms, set tackle is any fishing tackle designed, rigged, floating or tied off for the purposes of catching fish while “unattended” by the fishing visitor (e.g., trotlines, setlines).

I. Natural bait. Any natural live aquatic organism used to catch target fish.

3.7 When do we address the decision to allow fishing for proposed additions to the System? When lands or waters are under consideration for addition to the System, the Refuge Manager will make an interim compatibility determination on any existing priority public use. The record of decision establishing fishing on the refuge must document the completion of such determinations. The results of these determinations are to be in effect until the completion of a Comprehensive Conservation Plan (CCP). It is during the development of the CCP and implementation of National Environmental Policy Act (NEPA) that we accept public comments and incorporate them into the decision to allow fishing on the refuge. Refer to the Comprehensive Conservation Planning Process Chapter (602 FW 3) for detailed information on this process.

3.8 What are the procedures for opening System waters to fishing? The decision to open a refuge to fishing depends on the provisions of laws and regulations applicable to the specific refuge and a determination by the Refuge Manager that opening the area to fishing or harvest of other aquatic species will be compatible. This decision must also be consistent with the principles of sound fishery management, applicable fisheries objectives, and otherwise be in the public interest (see 50 Code of Federal Regulations (CFR) 32.4).

A. Specific conditions. The following conditions apply to fishing on certain units of the System:

(1) Waterfowl Production Areas (WPAs). WPAs are open to fishing subject to State law (50 CFR 32.4) as long as it is compatible. A rulemaking document is not necessary to open these areas to fishing since they are open unless closed. We may restrict WPA fishing programs by following the procedures established for refuges. Under 50 CFR 32.4, we may also temporarily close WPAs to fishing and other public use if circumstances warrant.

(2) Wetland easements. We have no authority over fishing on wetland easements, which we most often acquire as part of the Small Wetland Acquisition Program, unless we purchased specific rights with the easements. For these easements, the landowners has usually retained all rights to control public access, including access for fishing and other recreational uses.

(3) Easement refuges. The rights acquired with the individual easement refuge determine our control over fishing on easement refuges. The Regional Director is responsible for determining the extent of control over fishing on these areas. If we control fishing, the Refuge Manager must follow all procedures required to open a refuge to fishing.

(4) Farm Service Agency Easements (formerly Farmers Home Administration (FmHA)). We have no authority over fishing or other forms of public use on easements obtained through the various Farm Service Agency inventory property easement programs of 1985, 1990, and 1996. The landowner retains the right to control access for fishing and other recreational uses.

(5) National wildlife refuges in Alaska. The Alaska National Interest Lands Conservation Act (16 U.S.C. 410hh-3233 and 43 U.S.C. 1602-1784) opens all national wildlife refuges in Alaska to fishing under applicable Federal and State law as long as it is compatible (50 CFR 36.32). A fishing plan or rulemaking document is not necessary to permit fishing on these refuges. We may prohibit or restrict the taking of fish only in conjunction with notices and hearings under the requirements of 50 CFR 36.42 regarding public participation and closure procedures. Local rural residents may fish and gather shellfish for subsistence uses in compliance with applicable Federal and State laws. Non-wasteful subsistence use of wildlife by local rural residents has priority over other consumptive uses permitted on national wildlife refuges in Alaska.

B. Evaluation criteria for fishing programs. We will use the following criteria and standards to evaluate fishing programs on units of the System:

(1) Compatibility. A fishing program must be compatible with the purpose(s) of the refuge and the System mission.

(2) Biological integrity, diversity, and environmental health. Fishing programs must maintain, or contribute to the maintenance of, viable populations of native species. We design our fishing programs to support accomplishing refuge purposes while maintaining or restoring biological integrity, diversity, and environmental health (see 601 FW 3). We will not establish fishing programs when there is a high potential to adversely affect a significant biological component of an existing native fish population, either by taking fish from that population or by introducing non-native species.

(3) Relationship with other public use programs. An integrated approach to providing opportunities for compatible wildlife-dependent recreational uses will minimize conflicts. The Refuge Manager will evaluate time and space scheduling and zoning as methods to ensure opportunities for a quality experiences among different user groups. In the case of conflicts between priority wildlife-dependent recreational use, the Refuge Manager will make the final decision on which use to allow and which to curtail.

(4) Resources. Providing quality recreational experiences for the public requires appropriate funding, facilities, and staff. The House Report accompanying the House of Representatives version of the National Wildlife Refuge System Improvement Act of 1997 (H. Rpt. 105-106) encourages refuge managers to take reasonable steps to obtain outside assistance from States and other conservation interests, if adequate financial resources are not available to manage a priority use in a compatible manner. Refuge managers should work closely with State, community, and conservation partners to help obtain necessary resources to manage the priority wildlife-dependent recreational use programs. Potential sources of support include the following: angling organizations, user fees for hunting; cooperating with State, local, or Tribal agencies; and assistance from refuge support groups or volunteers. We encourage refuge managers to seek and implement other opportunities to obtain additional resources as they become available.

(5) Evaluation and monitoring. Refuge managers must monitor and evaluate their fishing programs regularly. Refuge managers must evaluate both the quality of the recreation experience and the effects of the activity on refuge resources. A wide variety of evaluation tools exist, from simply asking the fishing public how they rate their experience to contracting with a university or private company to conduct a formal survey. If a Refuge Manager decides to use a survey to evaluate the fishing experience, he or she must receive approval from the Office of Management and Budget before conducting any public surveys.

C. Consultation and coordination.

(1) Coordination with states and tribes. When a refuge, or portion thereof, is open to fishing, we generally allow fishing within the framework of applicable State and Tribal regulations. We consult with the State, Tribes, and other appropriate authorities during the development of fishing programs and whenever we plan significant changes. Refuge regulations must be consistent with State and Tribal regulations, to the extent practicable. The use of more restrictive regulations requires consultation with the State or Tribe. We must list regulations that are more restrictive than State or Tribal regulations, such as seasons and fishing hours as refuge-specific regulations in 50 CFR part 32. Refuge-specific regulations must not weaken existing State or Tribal laws and regulations. We must justify deviations from State or Tribal regulations in the refuge fishing plan or amendments to that plan. Refuge managers should discuss refuge-specific regulations with peer-level State or Tribal administrators.

(2) Endangered species consultation. Refuge managers will review all fishing programs annually to determine if they may affect, adversely or beneficially, threatened or endangered species and their habitats. The Refuge Manager will initiate consultation, as appropriate, under Section 7 of the Endangered Species Act and intra-Service consultation procedures, consistent with the “Policy for Conserving Species Listed or Proposed for Listing Under the Endangered Species Act While Providing and Enhancing Recreational Fishing Opportunities,” and Section 305 (b)(1)(A) of the Magnuson-Stevens Fishery Conservation and Management Act (Pub. L. 94-265) regarding effects on “essential fish habitat.”

(3) Public involvement. The appropriate level of public involvement must accompany new or significant changes (e.g., boundary change, change of species fished, bait restrictions) to existing fishing programs. We plan efforts well in advance of the proposed changes in order to obtain as much involvement from the public as possible. A variety of methods are available for the Refuge Manager to use to involve and inform the public, including public meetings, workshops, news releases, and mailings to targeted groups. We encourage refuge managers to continue to use these and other methods. We require an outreach plan for new fishing programs or any significant changes affecting existing programs. We develop these plans in coordination with Regional External Affairs Offices for new fishing programs or any major changes affecting existing programs.

D. Documentation required to open a refuge to fishing. The Refuge Manager must submit the following documents to the appropriate staff in the Regional Office. This individual then forwards a copy to the National Wildlife Refuge System Headquarters for preparation of a rulemaking document:

(1) Fishing plan. This plan should be a step-down plan of the refuge's CCP, which must include a compatibility determination on the fishing program. If the unit has not yet completed a CCP, the step-down fishing plan must contain a compatibility determination(s) until the CCP is completed. Cover fishing and shellfish harvest in separate compatibility determinations. The plan must provide overall documentation of the fishing allowed on a refuge, including the relationship of fishing to refuge purpose(s), goals, and objectives of the refuge and the System mission. We label a suggested format for a refuge fishing plan as Exhibit 1 in this chapter.

(2) Appropriate NEPA documentation.

(3) Appropriate decision documentation.

(4) Section 7 evaluation. (See Exhibit 2 for information on Section 7 evaluation.)

(5) Copies of letters requesting state, and where appropriate, tribal involvement and the results of the request.

(6) Draft news release.

(7) Outreach plan. (We label a Directorate-approved outline for an Outreach Plan as Exhibit 3).

3.9 Who prepares and reviews a refuge fishing plan? The Refuge Manager, with technical assistance as required from Service fisheries biologists, State wildlife agencies, and, where appropriate, Tribal governments, is responsible for preparation of the fishing plan. The Regional Director approves the plan before the rulemaking process begins. During the rulemaking process, Headquarter's staff reviews the fishing plan and supporting documents. The Refuge Manager will annually review the fishing plan on the refuge where we allow fishing.

3.10 What information do we need for publication in the Federal Register? The Refuge Manager will determine the compatibility of conducting a fishing program on the refuge and will document the results in an approved fishing plan. After the Refuge Manager determines that the proposal is compatible, he or she will submit information about whether a refuge will open for fishing and the conditions of that fishing proposal to the Federal Register Liaison at the Headquarters. We will use this information to develop the proposed and final refuge-specific regulations for publication in the Federal Register and for codification in 50 CFR.

3.11 What is the refuge-specific regulation process? The refuge-specific regulation process is outlined below:

A. The Headquarters must publish in the Federal Register any proposed and final refuge-specific regulations pertaining to a refuge's fishing program and that are necessary to conduct that program prior to them becoming effective. Forward all refuge-specific regulations and any changes to 50 CFR part 32 through appropriate channels to the Headquarter's Federal Register Liaison for clearance and submission to the Federal Register. The refuge is open to fishing officially after the effective date of the final rule. Fishing can begin concurrently or after the opening of the season under the published regulations.

B. Refuge managers must review these regulations and the refuge fishing plan annually to ensure compatibility and consistency of the fishing program with existing laws and regulations. Regional Offices must submit any amendments (additions, deletions, or modifications) each year to their designated regional hunting and fishing program coordinators who, in turn, send that information to the Headquarter's Federal Register Liaison for inclusion in the rulemaking documents for publication in the Federal Register. The Headquarter's Federal Register Liaison must receive this information by January 31 each year to allow sufficient time for compilation and review by concerned program offices and the Solicitor, signature by the Assistant Secretary, and the Departmental review for both proposed and final rules. This includes a 30-day public comment period on the proposed rule. We cannot publish a refuge opening without the complete fishing package. If no amendments are necessary, refuge managers should submit a negative response to that effect to the Regional Office. Refuge-specific regulations should be standard and consistent in format throughout the System. We include guidelines for preparing and submitting regulations and amendments in Exhibit 4.

3.12 How do we revise a fishing plan? The Refuge Manager may approve all revisions in fishing plans except major revisions. Major revisions in fishing plans (e.g., addition of new bodies of water or new species available for taking to a fishing program) can occur only as an amendment to the fishing plan unless the original plan included specific conditions under which the revision could occur. Preparation and approval of amendments follow the same guidelines as preparation and approval of the plan. Refuge managers will submit only the revised portion of the plan for approval to the Regional Office. The Regional Director approves revisions only if we have already listed the Refuge in 50 CFR as open to fishing. Otherwise, the Regional Office will submit the amended fishing plan to Headquarters to begin the rulemaking process described in section 3.11.

3.13 What are the guidelines for refuge fishing programs? We should plan, manage, conduct, and evaluate refuge fishing programs on a consistent basis in ways that protect habitat, fish and wildlife, ensure angler and visitor safety, and promote positive values such as high ethical standards and respect for the resource. Fishing on refuges must have the attributes of a quality fishing program listed in section 3.6. The following guidelines should help ensure that quality opportunities are available.

A. Permits. We require anglers to have all applicable Federal, Tribal, and State licenses, permits, or stamps in their possession. We can issue refuge permits to limit access, regulate methods, or gather information. If we use refuge permits to limit angler numbers, we will issue them on a random basis to the public. Refuge managers should avoid complicated application processes that require additional resources. Application processes should be flexible to provide an opportunity to all potential anglers. We should coordinate with Tribal and State application and lottery processes where practicable.

B. Fees. We can charge fees for applications, refuge permits, and the use of facilities (e.g., boat ramps) under existing recreation fee programs. We use fees collected to enhance visitor facilities, to protect resources, and to educate visitors. The Regional Fee Coordinator can assist with the approval of fees.

C. Zoning recreational use. We desire a balanced fishing program that allows a variety of angling opportunities and contributes to the quality of a fishing experience. We can use zoning of boat types and motor horsepower to help achieve a balance of allowed uses and to reduce conflicts between anglers and other users. We can also use zoning to provide less competition for youth fishing events, anglers with disabilities, and those using non motorized boats and/or methods that reduce fish mortality, such as catch and release.

D. Law enforcement. Law enforcement is an important part of any fishing program. The effort invested should be sufficient to protect human safety, fish populations, and ensure compliance with regulations based on past experiences and current circumstances.

E. Angler access and vehicle vessel control. Refuge managers should carefully plan, manage, and evaluate angler access and vehicle/vessel control to retain quality opportunities. We should balance “walk-in” and remote fishing opportunities with easily accessible fishing opportunities. We can make exceptions to general access restrictions for anglers with disabilities when necessary to facilitate their experience and when compatible with resource management objectives.

F. Camping. We may allow camping on refuges when we have determined it to be a secondary compatible use that is necessary to support fishing opportunities. Camping is only appropriate when no reasonable (based on time, distance, and expense) lodging opportunities are available off-refuge and when staff resources needed to manage camping do not detract from the quality of another priority wildlife-dependent recreational use [refer to the Appropriate Uses Chapter (603 FW1) for information on non priority uses]. Large refuges in the western United States, refuges in Alaska, and some remote refuges allow camping under these criteria..

G. Fishing by service staff. Service employees are subject to the same rules and regulations as the general public. If only limited fishing opportunities exist, refuge managers should discuss with Service employees the need to be sensitive to the possibility of the public perception of conflict of interest. We never authorize Service employees to wear uniform components outside of their official capacity. When employees participate in off-duty fishing opportunities, they are not authorized and, therefore, should never wear uniform components (e.g., uniform ball caps, uniform jeans). In addition, personnel may not use means of access to fish in areas that are not available to the general public. This policy does not apply to the collection of fish by refuge staff for the purpose of monitoring specific fish populations.

H. Communication materials. Professionally developed outreach materials will assist refuge managers by providing clear and thorough information to anglers. Brochures must conform to the U.S. Fish and Wildlife Graphics Standards and be consistent with refuge-specific regulations. Contact your Regional Publications Coordinator for graphic standards. Refuge managers do not need to include regulations and dates that are identical to State seasons. Include information that encourages anglers to fish safely and ethically, and use equipment that reduces injury to released fish (such as barbless hooks). If we develop informational signs, they will conform with the Service's Sign Manual.

I. Tournament fishing. We prohibit this type of fishing on System lands and waters unless we make a specific determination that the event builds appreciation for and an understanding of fish and wildlife resources, does not reasonably interfere with other refuge visitors, and if prizes of only nominal value are awarded. Refer to the Appropriate Uses Chapter (603 FW 1) for additional discussions of competitive events.

J. Special fishing areas. Our policy is to offer fishing opportunities to as broad a spectrum of the general public as possible. Generally, fishing programs should consider any legal means of fishing, as defined by the State and is determined to be appropriate and compatible and not inconsistent with System policy.

K. Nonnative bait. We will allow no live, nonnative bait (defined, with respect to a particular ecosystem, any species, including its seeds, eggs, spores, or other biological material capable of propagating that species) on System waters where we have jurisdiction. We will generally refer to the individual State's definition of native on System waters.

L. Natural bait methods. Throw nets, minnow traps, and other means/methods of taking natural bait will be done under State regulations unless we list more restrictive regulations in the refuge-specific regulations. We will limit bait collection on refuges to the recreational harvest of natural bait for personal use only; we will allow no commercial harvest of natural bait in waters under the jurisdiction of the System.

M. Limited harvest. We may offer special opportunities to a limited number of anglers in cases where there is a relatively small area of water to fish or we have a relatively low number of fish that are available for harvest.

N. Youth fishing. We encourage refuge managers to set aside areas or times to promote fishing by children or under represented groups. Experiencing the thrill of the catch and exposure to proper fishing methods through programs such as “Pathways to Fishing” and National Fishing Week is important to developing life skills and public support for healthy ecosystems. Refuge managers should take advantage of these opportunities to educate young anglers and their parents about the importance of fisheries management, the need for slot sizes, consumptive and non consumptive fishing opportunities and quality fishing experiences.

O. Barbless hooks. We encourage the use of these devices in our fishing program and recognize the importance of this method in reducing mortality of fish not intended for consumption (e.g. fish outside of the slot size range). As more anglers raise concern over the state of America's fisheries, refuge managers should take the lead in introducing methods that not only promote the experience but educate the angler. By promoting the use of barbless hooks in our brochures and other information sheets, we can, in some cases, avoid the need for increasing seasonal closures.

P. Data collection. Refuge managers should consult with the Service's Fisheries Program Specialist, States, Tribes, and other appropriate entities regarding data collection needs and survey methods.

Q. Nontoxic tackle. Refuge managers may restrict the use of specific types of tackle (e.g., lead fishing weights) in System waters to protect certain species (e.g., loons).

R. Unattended tackle. The use of trotlines, setlines, gillnets, giglines, jug lines, soap lines, snaglines and other unattended tackle, may be allowed if authorized by State fishing regulations. We prohibit the use of unattended tackle by commercial operators on System waters under our jurisdiction except when used as a management tool. We must strictly monitor the unattended tackle program and document the results. The only exception to this policy is found in the Alaska National Interest Lands Conservation Act (ANILCA) under subsistence uses. We do not consider tip-ups used for ice fishing unattended tackle for the purpose of this policy.

S. Ice fishing. We recognize ice fishing as an appropriate fishing opportunity. Refuge managers should encourage this activity where it is compatible and can be conducted in a safe manner. We prohibit the use of long-term structures or structures suitable for overnight occupancy.

T. Night fishing. We allow night fishing when it is appropriate and compatible with the purpose(s) of the refuge and the System's mission. If a refuge generally is not open after sunset, refuge managers may make an exception and permit night fishing. Refuge managers must base the decision on specific refuge objectives and not historical use. Refer to the General Guidance Chapter, 605 FW 1, for additional information about after-hours activities.

3.14 How do we close a refuge to fishing? The Refuge Manager may close all or any part of a refuge that we have opened to fishing whenever necessary to protect the resources of the area or in the event of an emergency endangering life, property, or any population of fish, wildlife, or plants.

A. Emergency closure. We do not require advance public notice for closure under emergency conditions. We notify the public of such closures by signs, special maps, or other appropriate methods.

B. Non-emergency closure. We evaluate non-emergency closure of a refuge fishing program for impacts on wildlife populations, ecosystems, and priority recreation uses. If the impacts are likely to be major or controversial, we prepare an environmental assessment and follow the public participation process identified in the National Environmental Policy Act (NEPA). In Alaska, we do not implement temporary closures (not exceeding 12 months) or restrictions relating to the taking of wildlife prior to the notice and hearing that we will conduct an emergency closure in the vicinity of the affected area(s).

Exhibit 1—Refuge Fishing Plan Format

I. Introduction

Include a general description of the refuge and information pertinent to the planned fishing program. If refuge managers develop this fishing plan as a portion of an integrated public use plan, we do not require this information. Include non repetitive general information in the Comprehensive Conservation Plan.

II. Conformance with Statutory Authorities

Explain how the program will be compatible with the System mission and the purpose(s) for which the refuge was established. Include projections of the resources (staff and funding) needed to conduct the program and their sources. Include an explanation of how the program will address the requirements of applicable authorities.

III. Statement of Objectives

List the major refuge objectives and the specific objectives of the fishing program. Describe how fishing will impact the refuge objectives.

IV. Assessment

Evaluate the fishing resources on the refuge populations and habitat. Points to be discussed include, but are not limited to, the following:

a. A biological evaluation.

b. Will populations sustain fishing and still support other wildlife-dependent priority uses?

c. Do fished species and other wildlife compete for habitat?

d. Do fished species prey on other species at unacceptable levels?

V. Description

Describe the program in detail using graphics as needed. The description should include:

a. Areas of the refuge that support fished species.

b. Areas of the refuge you intend to open to fishing.

c. Species for which you will allow fishing and fishing periods.

d. Justification of permit system, if required.

e. Consideration of user fees.

f. Consultation and coordination procedures with States and Tribes, including justification of refuge-specific regulations.

g. Methods of control and enforcement.

h. Consideration of providing opportunities for anglers with disabilities and youth anglers.

VI. Measures Taken to Avoid Conflicts With Other Management Objectives

a. Biological conflicts. Include Section 7 consultation, and other measures proposed to minimize or eliminate conflicts with endangered species or nontarget species.

b. Social Conflicts. Include proposed measures that minimize or eliminate conflicts with other user groups.

VII. Program Specifics

a. Refuge-specific regulations.

b. Outreach plan.

c. Angler application and registration procedures (if needed).

d. Description of angler selection process (if needed).

e. Draft news release regarding the fishing program.

f. Angler requirements.

(1) Age of angler.

(2) Allowable equipment.

(3) Licensing and permits.

(4) Reporting requirements.

(5) Angler training and safety.

(6) Other information (use of boats, motors, etc.).

VIII. Compatibility Determination

IX. Appropriate NEPA Documents

X. Evaluation

a. Monitoring and reporting use levels and trends.

b. Surveying needs of the fishing visitor.

c. Are we meeting program objectives?

d. Do we need to resolve any conflicts?

e. Refuge/Regional Office review schedule.

Exhibit 2—Priority Wildlife-Dependent Recreation (Fishing)

Use the following terminology for your section 7 determination as to whether the opening of your refuge to hunting and/or fishing will affect the continued existence of any endangered or threatened species or result in the destruction or adverse modification of habitat of such species within the System.

Types of Effects

1. No effect: The appropriate conclusion when the Service determines that a proposed Service action will not affect a listed species or designated critical habitat.

2. Is not likely to adversely affect: The appropriate conclusion when effects on listed species are expected to be discountable, insignificant, or completely beneficial. Beneficial effects are contemporaneous positive effects without any adverse effects to the species. Insignificant effects relate to the size of the impact and should never reach the scale where take occurs. Discountable effects are those extremely unlikely to occur. Based on best judgment, a person would not (1) be able to meaningfully measure, detect, or evaluate insignificant effects; or (2) expect discountable effects to occur.

3. Is likely to adversely affect: The appropriate finding in a biological assessment (or conclusion during information consultation) if any adverse effect to listed species may occur as a direct or indirect result of the proposed Service action or its interrelated or interdependent actions, and the effect is not: discountable, insignificant, or beneficial (see definition of “is not likely to adversely affect”). In the event the overall effect of the proposed Service action is beneficial to the listed species but is also likely to cause some adverse effects, then the proposed Service action “is likely to adversely affect” the listed species. If incidental take is anticipated to occur as a result of the proposed action, an “is likely to adversely affect” determination should be made. Such a determination requires the initiation of formal intra-Service section 7 consultation (see definition of “informal intra-Service consultation”).

4. May affect: The appropriate conclusion when a proposed action may pose any effects on listed species or designated critical habitat. When the Federal agency (in this case the Service) proposing the action determines that a “may affect” situation exists, then the Service must initiate formal consultation or seek written concurrence from the involved Service programs that the action “is not likely to adversely affect” listed species.

5. Is likely to jeopardize proposed or candidate species/adversely modify proposed critical habitat: The appropriate conclusion when the Service identifies situations where the proposed Service action is likely to jeopardize the continued existence of a species proposed for listing or a candidate species, or adversely modify an area proposed for designation as critical habitat. If this conclusion is reached, intra-Service consultation is required.

Types of Consultation

1. Formal intra-service consultation: A process between a Service program taking/authorizing an action and another Service program affected by that action that: (1) determines whether a proposed Service action is likely to jeopardize the continued existence of listed species or destroy or adversely modify designated critical habitat; (2) begins with the Service program taking the action providing a written request and submittal of a complete initiation package to the affected Service program; and (3) concludes with the issuance of a biological opinion and incidental take statement by the affected Service program. If a proposed Service action may affect a listed species or designated critical habitat, formal intra-Service consultation is required (except when the involved Service programs concur, in writing, that a proposed action “is not likely to adversely affect” listed species or designated critical habitat). [50 CFR 402.02; 50 CFR 402.14]

2. Informal intra-service consultation: An optional process that includes all discussions and correspondence between Service programs, prior to formal intra-Service consultation, to determine whether a proposed Service action may affect listed species or critical habitat. This process allows the Service to utilize its in-house expertise to evaluate a Service program's assessment of potential effects or to suggest possible modifications to the proposed action that could avoid potentially adverse effects. If a proposed Service action may affect listed species or designated critical habitat, formal intra-Service consultation is required (except when the involved Service programs concur, in writing, that a proposed action “is not likely to adversely affect” listed species or designated critical habitat). [50 CFR 402.02; 50 CFR 402.13]

Exhibit 3—Outreach Plan Summary

I. Issue: (State the issue in one or two sentences.)

II. Basic Facts About the Issue:

III. Communication Goals:

IV. Message:

V. Interested Parties:

VI. Key Date:

VII. Strategy:

Exhibit 4—Guidelines for Preparation of Refuge-Specific Fishing Regulations

Fishing regulations on national wildlife refuges accomplish three major purpose(s): They protect the resource, manage it, and ensure safety. State fishing regulations generally provide the framework for meeting these three criteria. When State regulations fall short of meeting these criteria, refuge-specific regulations are necessary. These regulations should focus primarily on management of the wildlife (fisheries) resource and should be enforceable. For example, if we require permits on a specific refuge, a statement that we require special refuge permits is all that is necessary. Details are not appropriate in the regulations. Address details in a leaflet or the permit application. Also, do not submit text for your refuge unless it represents a CHANGE to the existing language in part 32. If you are adding conditions to those already published, state that these are “adds” and indicate where you want them inserted in the text.

Duplication of existing 50 CFR provisions. When writing your regulations, check 50 CFR to avoid duplication. For example, in Part 27, Prohibited Acts, Section 27.31 restricts motor vehicles to “designated routes of travel. * * * delineated on maps by the Refuge Manager;” Section 32.2(j) adequately covers possession of alcohol; and Section 27.95 prohibits setting fires.

Duplication of State regulations. 50 CFR 32.2 states “(d) Each person shall comply with applicable provisions of the laws and regulations of the State wherein any area is located unless further restricted by Federal law or regulation.” Therefore, do not repeat State creel limits, seasons, etc., in the refuge-specific regulations. Refuge managers will justify why refuge-specific regulations deviate from State laws and regulations in a cover memo to the appropriate regional office representative.

Preparation of refuge-specific regulations. List tackle limits, creel limits, seasons, and hours that differ from the State's in the refuge-specific regulations. Please use the following examples for your submission for changes or additions to part 32:

For modifications to existing text in part 32:

Section 32.32 Illinois.

Chautauqua National Wildlife Refuge

D. Sport Fishing.

Replace condition D.1. with the following:

You may fish on Lake Chautauqua from January 15 through October 15. You may not fish in the Waterfowl Hunting Area during waterfowl hunting season.

Delete condition D.2.

Renumber conditions D.3., D.4., and D.5., to become D.2., D.3., and D.4., respectively.

To add a refuge that is opening for fishing for the first time:

Section 32.63 Texas

Lower Rio Grande Valley National Wildlife Refuge

D. Sport Fishing. We allow sport fishing on designated areas of the refuge subject to the following conditions:

1. We only allow fishing at the three designated access sites on the Boca Chica Tract.

2. You must adhere to all applicable State fishing regulations.

Draft Wildlife Observation Policy

Fish and Wildlife Service

Priority Wildlife-Dependent Recreation

Part 605 Fish and Wildlife Service Manual

Chapter 4 Wildlife Observation 605 FW 4.1

4.1 What is the purpose of this chapter? This chapter provides the Fish and Wildlife Service's (Service) policy governing the management of recreational wildlife observation on units of the National Wildlife Refuge System (System).

4.2 What programs does this chapter apply to? The policies contained in this chapter apply to recreational wildlife observation within the System.

4.3 What is our policy regarding wildlife observation on refuge lands? The overarching goal of our priority public use policies is to enhance opportunities and access to high quality visitor experiences on national wildlife refuges while not compromising wildlife conservation. Wildlife observation is a legitimate and appropriate public use of the System, and along with the five other priority public uses in the Refuge Improvement Act, will receive enhanced consideration over other uses. This means we will especially invest our resources in providing high quality wildlife observation experiences for refuge visitors. When determined to be compatible, refuge managers are strongly encouraged to provide to the public wildlife observation opportunities. Our wildlife observation programs will promote understanding and appreciation of natural and cultural resources and their management on all lands included in the System. We encourage refuge staff to coordinate refuge wildlife observation programs with applicable local, State, and Federal programs. We also encourage refuge staff to take advantage of opportunities to work with other partners who have an interest in helping us promote high quality wildlife-dependent recreational programs on refuges.

4.4 What are the objectives of our wildlife observation program? The objectives of the System wildlife observation program are to promote public understanding of and increase public appreciation for America's natural resources and the System by providing safe, enjoyable, attractive and accessible wildlife viewing opportunities and facilities.

4.5 What authorities allow us to support wildlife observation activities on National Wildlife Refuge System lands? Reference 605 FW 1 for laws that govern wildlife observation on System lands.

4.6 What are the elements that constitute quality wildlife observation opportunities? Essential elements of a quality wildlife observation experience include the following:

A. Observations occur in a primitive setting or use safe facilities and provide an opportunity to view wildlife and its habitat in a natural environment;

B. Observation facilities or programs maximize opportunities to view the spectrum of wildlife species and habitats of the refuge.

C. Observation opportunities, in conjunction with interpretive and educational opportunities, promote public understanding of and increase public appreciation for America's natural resources and the role of the System in managing and protecting these resources;

D. Viewing opportunities are tied to interpretive and educational messages related to stewardship and key resource issues;

E. Most facilities blend with the natural setting, station architectural style, and provide viewing opportunities for all visitors, including persons with disabilities;

F. Design of observation facilities minimize disturbance to wildlife while facilitating the visitor's views of the spectrum of species found on the refuge;

G. Observers understand and follow procedures that encourage the highest standards of ethical behavior;

H. Viewing opportunities exist for a broad spectrum of the public; and

I. Observers have minimal conflict with other priority wildlife-dependent recreational uses or refuge operations.

4.7 How do we address the quality of our wildlife observation programs when funding is an issue? Limited funding and staff may affect the quality of the wildlife observation experience that a refuge is able to offer the public. Refuge managers must scrutinize the impacts that lack of resources will have on the ability to provide quality wildlife observation opportunities to the public. It is appropriate to concentrate resources on fewer, high quality opportunities or seek partnerships to provide opportunities rather than offer many wildlife viewing opportunities that lack quality. When a refuge accepts funding to improve wildlife observation opportunities from partnership organizations, the Refuge Manager must ensure that the opportunity is provided in the most appropriate location.

4.8 How do we foster public stewardship in our wildlife observation programs? Refuge managers provide opportunities for the public to observe wildlife in order to instill in them an appreciation for the value of and need for fish and wildlife habitat conservation. Refuges provide enhanced opportunities to view wildlife in their natural habitat by identifying viewing areas, providing platforms, viewing equipment, providing brochures and interpreters, and designing tour routes. Refuge managers should seek to develop partnerships with organizations that promote wildlife observation and take steps toward conserving such resources. We encourage Refuge managers to design local “hands-on” activities that inspire participants to become involved in habitat restoration and other outreach programs. These opportunities foster a sense of stewardship for the System, wildlife, and habitat resources through direct association.

4.9 Is there a special need to provide safety and accessibility within our wildlife observation programs? Key issues for providing a quality wildlife observation program include accessibility and public safety. They are two of our highest priorities when evaluating our programs.

A. The Refuge Manager will ensure wildlife observation opportunities are accessible to a broad spectrum of visitors. Refuge managers must locate and design wildlife observation facilities to meet the needs of visitors with different abilities. The wildlife observation program fulfills accessibility standards and requirements by adhering to the Architectural Barriers Act of 1968 (42 U.S.C. 51, Sec. 4151), the 1984 Uniform Federal Accessibility Standards (UFAS), and the Americans with Disabilities Act of 1990 (42 U.S.C. 126). These acts specify physical accessibility in all construction and renovation projects funded wholly or in part by the Federal government. Also, the Rehabilitation Act Amendments of 1998, (29 U.S.C. 791 et seq.), require accessibility for all programs receiving Federal funds.

B. Visitor safety at refuges is a high priority. The Refuge Manager will construct pullouts and overlooks to reduce vehicular hazards. The Refuge Manager will provide visitors information regarding specific hazards and animal behavior if there is a concern about visitor safety. We may also use environmental education and interpretive programs to alert visitors about safety issues.

4.10 How should we address visitor conflicts? Wildlife observation opportunities must be compatible with the purpose(s) of the refuge and the System mission. Increased visitation to refuges, in many cases, will cause user conflicts and may create unavoidable wildlife disturbances. The Refuge Manager may impose use limits or establish zones of use to reduce conflicts. The Refuge Manager determines which uses to allow when conflicts exist between priority recreation uses.

4.11 What are some examples of tools we can use to support our wildlife observation program? The following are examples of tools that we can use to support wildlife observation. The Refuge Manager should consider these as guidelines and continually use creativity and ingenuity when providing opportunities that highlight the uniqueness of a particular refuge.

A. Information. Information distribution is an invaluable management tool as well as a means to promote wildlife observation opportunities. Information, distributed through various media, should communicate what wildlife observation opportunities are available, best viewing times, techniques that emphasize respect for wildlife through the minimization of visitor impacts on wildlife, access point information, viewer etiquette, regulations, restrictions, management concerns, and management objectives. Examples of ways to provide information include bird/plant/mammal check lists, brochures, maps, books, watchable wildlife recreation symbols to help identify wildlife viewing opportunities, wildlife viewing guides, movies, slide shows, talks, guided walks, staffed information desks, roving interpreters, formal environmental education classes, teacher workshops, and interpretive exhibits. Distributing information is a way to direct public use to appropriate areas, provide managers with the opportunity to present the refuge, System, and Service messages to visitors, and foster public appreciation and stewardship.

B. Developed observation sites. Developing specific areas for visitors to view wildlife enhances wildlife observation and limits disturbances of wildlife and habitat. During the planning process, Refuge managers must consider constructing viewing areas at sites that are less sensitive to the impacts of visitors. Refuge managers may consider hardening sites (e.g., adding gravel, asphalt, wood chips, etc.) as a method of reducing impacts. Developed observation sites provide a centralized area for visitors to receive information and education needed to produce a safe, high quality experience. Examples of such developments include trails, boardwalks in wet areas, observation platforms, blinds, vehicle pullouts, information kiosks, identification signs, and automobile tour routes. When modifications to facilities to increase accessibility for people with disabilities will deleteriously impact the setting's appearance, environmental features or historic character, we will make efforts to permit people with disabilities alternative access to the activity.

C. Specialized tools. In cases where direct wildlife viewing would be detrimental to sensitive species or habitats, Refuge managers may develop methods that provide remote viewing opportunities. Spotting scopes provide viewing opportunities from a distance. Remote cameras allow for viewing during especially sensitive periods such as nesting. Pictures from remote cameras link with the System's electronic field trip programs and long-distance environmental learning projects. Videos shown in the visitor center highlight wildlife and the purpose of the refuge. The videos aid those who visit the refuge outside of the optimum viewing season. Photographs incorporated into interpretive signs show visitors wildlife and habitats they may encounter. We should consider specialized tools as supplements to and not replacements for direct viewing opportunities. Consider using these tools to provide opportunities that might otherwise be unavailable.

D. Habitat enhancements. There may be situations where it is not feasible for viewers to get to an area for viewing because of cost, remoteness, accessibility problems, safety concerns or sensitivity to disturbance. In such cases, simple enhancement techniques in suitable and more accessible locations may be a solution. Examples of these techniques include creating a pond or wetland environment or creating bird habitat by planting cover vegetation in places where wildlife viewing is more accessible. Refuge managers must adhere to appropriate National Environmental Policy Act procedures before artificially creating habitat. Refuge managers must weigh both the benefits of enhancements to wildlife viewing against the change or elimination of the existing habitat and the potential harm the enhancement activity may have on wildlife.

E. Partners. Partnerships with other Federal and State agencies, Tribes, organizations, industry, local communities and others produce significant contributions to our wildlife observation programs. Refuge managers should contact potential cooperators and demonstrate the advantages associated with being a refuge supporter. Partnerships can develop through the sharing of expertise, personnel, materials, or money, and includes the “sharing” of wildlife and habitat. Wildlife does not observe property lines or agency boundaries. Sharing viewing areas may reduce human pressure from one spot or eliminate uses from sensitive spots by providing them off-site on shared areas. Partnering is an excellent way of fostering a sense of ownership and stewardship of natural resources among a variety of groups.

F. Evaluations. Refuge managers must monitor and evaluate their wildlife observation programs regularly. Refuge managers should evaluate both the quality of the resource experience and the effects of the activity on refuge resources. A wide variety of evaluation tools exist, from simply asking visitors how they rate their viewing experience to contracting with a university or private company to conduct a formal survey. If a Refuge Manager decides to use a survey to evaluate the visitor's wildlife experience, he or she must receive approval from the Office of Management and Budget (OMB) before conducting any public surveys (use of an existing Fish and Wildlife Service OMB-approved customer service evaluation card does not require additional OMB approval). We should have the refuge wildlife observation program reviewed by others to determine the quality of the program, if the program is meeting the specific objectives, and if it is meeting the needs of visitors.

4.12 Can we close a refuge to wildlife observation? The Refuge Manager may close all or any part of a refuge that is open to the public whenever it is necessary to protect resources of the area, to prevent potential emergency situations, or in the event of an actual emergency endangering life or property (i.e., severe weather conditions). These closures do not require advance public notice to be implemented. We notify the public of such closures by signs, special maps, or other appropriate methods. When considering possible long-term closures, Refuge managers must follow procedures for public involvement as identified in the National Environmental Policy Act (NEPA).

Draft Wildlife Photography Policy

Fish and Wildlife Service

Priority Wildlife-Dependent Recreation

Part 605 Fish and Wildlife Service Manual

Chapter 5 Wildlife Photography 605 FW 5.1

5.1 What is the purpose of this chapter? This chapter provides Service policy governing the management of recreational wildlife photography on units of the National Wildlife Refuge System.

5.2 What programs does this chapter apply to? The policies contained in this chapter apply to recreational wildlife photography within the System. Reference the guide chapter (604 FW 7) for policies and procedures related to activities such as professional guide services. Reference the Audio Visual Productions chapter (604 FW 10) for policies and procedures related to activities associated with commercial filming and news photography.

5.3 What is our policy regarding wildlife photography on refuge lands? The overarching goal of our priority public use policies is to enhance opportunities and access to high quality visitor experiences on national wildlife refuges while not compromising wildlife conservation. Wildlife photography is a legitimate and appropriate public use of the System, and along with the five other priority public uses in the Refuge Improvement Act, will receive enhanced consideration over other uses. This means we will especially invest our resources in providing high quality wildlife photography experiences for refuge visitors. When determined to be compatible, refuge managers are strongly encouraged to provide to the public wildlife photography opportunities. Our wildlife photography programs will promote understanding and appreciation of natural and cultural resources and their management on all lands included in the System. We encourage refuge staff to coordinate refuge wildlife photography programs with applicable local, State, and Federal programs. We also encourage refuge staff to take advantage of opportunities to work with other partners who have an interest in helping us promote high quality wildlife-dependent recreational programs on refuges.

5.4 What are the objectives of our wildlife photography program? The objectives of the System wildlife photography program are to promote public understanding and increase public appreciation for America's natural resources by providing safe, attractive and accessible wildlife photography opportunities and facilities.

5.5 What authorities allow us to support wildlife photography opportunities on National Wildlife Refuge System lands? Reference 605 FW 1 for laws that govern wildlife photography on System lands.

5.6 Have we defined common photographic terms? Yes. The following are definitions of terms used in reference to wildlife photography.

A. Film. Film is still photographs, motion pictures, and videotapes in digital and analog formats.

B. Recreational photography. Recreational photography is any type of visual recording on film performed by amateur owner/operators of photographic equipment. Casual photography is considered recreational photography and follows this policy (e.g., visitors taking photographs for their own use, non-commercial recreational photo contests).

C. News photography. News photography includes audio-visual productions for news and public affairs, stills, motion-pictures, video, records and audio tapes, such as those produced for television, newspapers, and magazines. News photography on System lands is for the benefit of the general public. Examples of news events are emergencies, special events, or appearances by public figures or other unusual, non-recurring natural phenomenon. News photography will not require a permit but some restrictions may be placed on the activity by the Refuge Manager to protect the resource and/or the individuals associated with the media. Refer to the audio-visual chapter for additional information on this subject (604 FW 10).

D. Commercial photography. Commercial photography is visual recordings by firms or individuals (other than news media representatives) who intend to distribute their photographic content for money or other consideration. We include the creation of educational, entertainment, or commercial enterprises in this category. We also include advertising audio-visuals for the purpose of paid product or services, publicity and commercially-oriented photo contests under this section. We cover commercial photography permit requirements under the audio-visual chapter of this manual (604 FW 10).

5.7 Have we defined a quality wildlife photography opportunity? Yes. The following are essential elements of a quality photographic opportunity and facility.

A. Photographic opportunities occur in or use safe facilities;

B. Photographic opportunities promote public understanding and increases public appreciation of America's natural resources and our role in managing and protecting these resources;

C. Photographic opportunities occur in places that have the least amount of disturbance to wildlife;

D. Photographers understand and follow procedures that encourage the highest standards of ethical behavior;

E. Opportunities are available to a broad spectrum of the photographing public;

F. Facilities, if provided, are fully accessible, reflect positively on us and blend with the natural setting;

G. Photographic opportunities incorporate a message of stewardship and conservation;

H. Photographic opportunities create minimal conflicts with other priority wildlife-dependent recreational uses or refuge operations.

5.8 How do we address the quality of our wildlife photography programs when funding is an issue? Limited funding and staff may affect the quality of the experience. Managers must scrutinize the impacts of lack of resources on quality. It is appropriate to concentrate resources on fewer, high quality opportunities or seek partnerships to provide opportunities rather than offer photographic experiences that are lower in quality.

5.9 How do we address public stewardship in our wildlife photography programs? We provide opportunities to the public in order to develop an appreciation for the value of, and need for, fish, plant and wildlife conservation. These opportunities should also foster a sense of stewardship for the System and its wildlife and habitat resources through direct association.

5.10 Is there a special need to provide safety and accessibility within our wildlife photography programs? Not only are public safety and accessibility key to a quality wildlife photography program, they must be two of our highest priorities when evaluating our programs. We construct pullouts and overlooks to reduce vehicular hazards to photographers. We give our visitors information regarding specific hazards and animal behavior if we have a concern about visitor safety. Environmental education and interpretive programs may also be used to bring safety concerns to the attention of photographers. We will make every effort to ensure wildlife photographic opportunities are accessible to a broad spectrum of visitors.

5.11 How should we address user conflicts? Wildlife photography opportunities must be compatible with the purpose of the refuge and the System mission. Increased visitation to refuges will cause user conflicts and may create unavoidable wildlife disturbances. Refuge managers may impose use limits or establish zones of use to reduce conflicts. As an example, casual wildlife observers may disturb photographers at a specific site that provides the best opportunity on the refuge to observe bald eagles. The Refuge Manager may work out a partnership with the State to provide a roadside viewing point just off the refuge along the highway for general observation. The Refuge Manager may then decide to limit the area within the refuge to photographers or those wanting to use photography blinds.

5.12 Can we close a refuge to photography? As long as a refuge is open to the public, we cannot close it specifically to photography. The Refuge Manager may close all or any part of a refuge that is open to the public whenever it is necessary to protect resources of the area or in the event of an emergency endangering life or property (i.e., severe weather conditions). We do not require advance public notice for closure under emergency conditions. The public is notified of such closures by signs, special maps, or other appropriate methods. When considering possible long term closures, refuge managers must follow procedures for public involvement as identified in the National Environmental Policy Act (NEPA).

Draft Environmental Education Policy

Fish and Wildlife Service

Priority Wildlife-Dependent Recreation

Part 605 Fish and Wildlife Service Manual

Chapter 6 Environmental Education 605 FW 6

6.1 What is the purpose of this chapter? This chapter identifies Service policy and guidance governing environmental education (EE) as a priority wildlife-dependent use of the National Wildlife Refuge System.

6.2 What is the scope of this chapter? This chapter applies to Refuge System environmental education programs and services. Along with this policy guidance, we will use other documents including but not limited to Connecting People to Wildlife, Environmental Education in the National Wildlife Refuge System, an environmental education guidance document for the Refuge System (Appendix 1).

6.3 What is our policy for environmental education? The overarching goal of our priority public use policies is to enhance opportunities and access to high quality visitor experiences on national wildlife refuges while not compromising wildlife conservation. Environmental education is a legitimate and appropriate public use of the System, and along with the five other priority public uses in the Refuge Improvement Act, will receive enhanced consideration over other uses. This means we will especially invest our resources in providing high quality environmental education experiences for refuge visitors. When determined to be compatible, refuge managers are strongly encouraged to provide to the public environmental education opportunities. Our environmental education programs will promote understanding and appreciation of natural and cultural resources and their management on all lands included in the System. We will work with local schools, citizen groups, and other organizations to provide programs and assistance that promote awareness, appreciation, and understanding of the role the System plays in the conservation of fish, wildlife, plants, and cultural and historical resources. We encourage refuge managers to coordinate refuge environmental education programs with applicable local, State and Federal programs. We also encourage refuge staff to take advantage of opportunities to work with other partners who have an interest in helping us promote high quality wildlife-dependent recreational programs on refuges.

6.4 What are our objectives for environmental education programs on refuges? Our environmental education programs:

A. Will provide appropriate materials, equipment, facilities, and study locations to support environmental education, where compatible;

B. Will allow program participants to demonstrate learning through refuge-specific stewardship tasks as well as projects that they can carry over into their everyday lives;

C. Will establish partnerships to support environmental education on refuges open to the public;

D. Will incorporate local, State, and national educational standards in our programs with an emphasis on wildlife conservation;

E. Will assist refuge staff and volunteers to attain the knowledge, skills, and abilities to support environmental education at the minimum or higher levels as defined in Section 6.7C(1) below;

F. Will teach awareness, understanding and appreciation of our trust resources: and

G. Will serve as a means by which refuge employees are seen as role models for environmental stewardship through a continually developing positive relationship with the community.

6.5 What is our legislative authority for environmental education? Reference 605 FW 1 for laws that govern environmental education on Refuge System lands.

6.6 What are some of the terms we use in this chapter? The following are definitions of terms used in this chapter.

A. Environmental education (EE). Activities that use a planned process to build knowledge, skills and abilities in students and others, about wildlife-related environmental topics. EE often follows sequential learning strategies to promote specific learning outcomes.

B. Educational assistance. Either on- or off-site, making EE expertise from Service staff available to schools and teachers, Service entities, government agencies, private groups, and individuals.

C. Outdoor classrooms. Sites of structured EE activities that:

(1) Focus on the natural environment;

(2) Come from an approved course of study with identified learner outcomes; and

(3) Are hands on, involving Refuge System lands.

6.7 How will we develop and implement this chapter? In this chapter we present guidance for planning, implementing, and evaluating EE programs within the Refuge System. Connecting People to Wildlife, the EE guidance document for the Refuge System, curriculum guides, and other documents created for regions or at refuges contain additional guidance.

A. Program support. The Office of the Chief, National Wildlife Refuge System, is responsible for overall guidance, implementation, and management of EE within the Refuge System. Regional Directors designate EE coordinators to assist refuges with education programs and products. The National Conservation Training Center (NCTC) offers several EE training courses and model programs as well as program support for our EE programs. Refuge managers plan, develop, and implement EE programs that increase public knowledge, understanding and support for refuge resources.

B. Program planning. Each field station designs its EE objectives and strategies when they develop their Comprehensive Conservation Plan (CCP) or step-down visitor services plan. Managers and staff analyze their EE program potential and determine their educational objectives and develop an interim program if they are not scheduled to develop a CCP within 2 years. In either of these planning processes, refuge staff :

(1) Determine if current or proposed educational sites, programs, and activities are compatible with the Refuge System mission, the purpose(s) of the refuge, and the goals and objectives established for the refuge;

(2) Identify staffing, funding, and other requirements for an EE program, enhancing our EE offerings by working with volunteers and through partnerships with educators;

(3) Identify ecosystem characteristics, endangered species, cultural resources, wilderness, and fish, wildlife, plants, cultural and historical resources that are key resource issues for each field station. Working with educators, we use this assessment to identify target audiences and look for creative ways to tie resource priorities to local educational needs and curricula;

(4) Collect and consistently update data identifying teachers, community resources, transportation constraints, and history of use by educational groups;

(5) Identify current or potential outdoor classroom facilities; and

(6) Identify educational needs and educational outreach opportunities for our staff, volunteers and partners, particularly activities involving nontraditional audiences.

C. Program development and priorities. Field stations establish educational program priorities based on their objectives and mandates, as well as local, State and national priorities. As part of our planning we evaluate educational programs and offer differing levels of EE based in part on the number of staff with public use duties as well as other available resources. Other factors that determine our level of involvement include demand for educational programs, the number of schools near a refuge, and their willingness to participate. We can place our environmental education programs in one of four levels of service. Each field station will use components of one, or a combination of these levels, to design their educational programs to meet local needs, and where possible will strive to include components from the next higher level.

(1) Refuges that have staffs of less than 5 FTEs, and do not have any positions solely dedicated to public use activities. At the minimum level, field station EE programs include:

(a) Creating or providing a lending library of materials and resources for teachers and other educators;

(b) Designating a trained staff contact person for EE;

(c) Designating a study site and providing stewardship opportunities;

(d) Helping local educators identify refuge resources and develop programs;

(e) Forming partnerships or recruiting and training volunteers including senior citizens and/or people with disabilities to conduct EE activities.

(2) Refuges that have staffs of approximately 5-9 FTEs, do not have any positions solely dedicated to public use, and have a Refuge Manager position at the GS 11-12 level. At the standard level, we encourage field stations to:

(a) Conduct and/or host teacher training workshops;

(b) Provide educators with refuge-specific curriculum, activities and lesson plans;

(c) Develop accessible outdoor classrooms;

(d) Establish formal partnerships with school districts and/or community groups to assist with development and implementation of refuge EE programming;

(e) Recruit and train volunteers to assist in developing and presenting EE programming;

(f) Conduct regular EE program evaluation;

(g) Provide opportunities to contribute to refuge management goals through learning and stewardship activities;

(h) Establish a lending library of educational materials, including but not limited to book, trunk, and multimedia resources;

(i) Conduct some on-site and occasional off-site EE programming; and

(j) Employ key staff who have acquired the skills to develop and conduct EE activities.

(3) Refuges that have staffs of approximately 10-14 FTEs with 1 position solely dedicated to public use, and have a Refuge Manager at the GS 12-13 level. At the enhanced level, we encourage field station EE programs to:

(a) Develop a multi-disciplinary EE program with integrated curricula meeting national and State educational standards;

(b) Adapt the refuge's program to increase participant learning and connect environmental health with quality of life;

(c) Develop multiple facilities or study sites, with materials and equipment, that support refuge goals and objectives;

(d) Seek to hire professionally trained refuge EE staff;

(e) Conduct refuge-specific workshops; special events; symposia, including day camps, after-school, and off-site programs; elder hostels; and extended learning opportunities;

(f) Provide EE training and mentoring opportunities for educators, Service staff, and others;

(g) Have an EE program that demonstrates student learning through measurable objectives;

(h) Create an extensive EE outreach program for reaching participants outside the local area;

(i) Allow our EE staff to continue to develop professionally by attending training;

(j) Use technology to interface with off-site participants through the Internet, distance learning and websites; and

(k) Establish partnerships beyond local communities.

(4) Refuges that have staffs of approximately 15 FTEs or more with 1 or more positions solely dedicated to public use, have a visitor center, and have a Refuge Manager at the GS 13-14 level. The “flagship” level applies to stations with EE as part of their purpose(s). Other stations with an enhanced EE program can operate at this level. In addition to items at the enhanced level, we encourage refuges at the flagship level to:

(a) Develop and pilot new programs with broad applications across the Refuge System;

(b) Host local, State or national events/projects such as State duck stamp contests;

(c) Serve as a development site for entry level employees, detailees, and Student Career Experience Program participants;

(d) Become a community or State leader in EE;

(e) Have staff present papers at national conferences;

(f) Have staff serve as mentors or instructors for EE courses and course development;

(g) Perform peer review of other stations' EE program;

(h) Have year-round facilities that support all aspects of the EE program;

(i) Become centers for distance learning;

(j) Develop interactive curricula on refuge/Service websites;

(k) Develop multi-cultural programs as needed; and

(l) Develop outreach and partnerships that have regional focus.

D. Refuge-specific guidelines for developing EE programs: We advance and support the National Wildlife Refuge System mission and goals by developing programs based on the following guidelines. EE programs in the Refuge System strive to:

(1) Connect people's lives to the health of the environment;

(2) Advance science literacy through an interdisciplinary educational approach;

(3) Strengthen the Refuge System through science learning;

(4) Help participants experience the wonder of fish, wildlife, plants, cultural and historical resources;

(5) Stress the role and importance of refuges and emphasize the relationship between wildlife and associated ecosystems;

(6) Be outcome-based, going beyond attending a program to resulting in something of value for both refuge resources and participants;

(7) Pursue outreach and partnership opportunities enhancing programs on and off refuges and expanding our levels of educational expertise and staffing;

(8) Include lesson plans and refuge activity guides that incorporate, complement and focus on local school curricula allowing participants to utilize refuges as living laboratories;

(9) Train educators, volunteers, and partners in resource issues in order to multiply our efforts across a broader spectrum of students;

(10) Establish, maintain, and promote environmental study sites and outdoor classrooms where they are compatible with refuge purpose(s), goals, and objectives;

(11) Involve under-served populations like urban or rural schools, Native Americans, non-English speaking populations, senior citizens, people with disabilities, and groups in the educational community other than K-12 such as colleges and universities;

(12) Expand our capability through technology such as web pages and electronic field trips; and

(13) Use appropriate formats for visitors with disabilities (learning, visual, hearing).

6.8 How do we evaluate EE programs? We evaluate environmental education programs in the following manner:

A. Refuge staff should annually evaluate the program and make necessary changes to strengthen it.

B. As part of our Refuge Management Information System (RMIS), each year we report the number of people taking part in four educational categories: teachers participating in workshops, students taught on-site by staff or volunteers, students taught off-site by staff or volunteers, and non-staff conducted EE. These statistics provide some information about program activity, and we can use the data to identify trends and give an indication of program involvement.

C. Regardless of the level of EE program involvement, we should develop evaluation tools to measure program effectiveness. One simple tool is a comment form given to the leader after an educational field trip. Another way may be to measure the instances of littering, vandalism, or poaching, or compliance with refuge regulations. Refuge staff may consider implementing more detailed evaluation tools to measure learning outcomes and concept retention. Regional or Washington Office staff can assist with developing and analyzing the results of these evaluation tools.

Draft Interpretation Policy

Fish and Wildlife Service

Priority Wildlife-Dependent Recreation

Part 605 Fish and Wildlife Service Manual

Chapter 7 Interpretation 605 FW 7

7.1 What is the purpose of this chapter? This chapter identifies Service policy and guidance governing interpretation as a priority wildlife-dependent use of the National Wildlife Refuge System.

7.2 What is the role of interpretation? As one of the six priority wildlife-dependent uses of the Refuge System, interpretation connects people (visitors) to resources providing opportunities for them to develop an understanding and appreciation for natural and cultural resources. Visitors will receive messages about Refuge System resources through a variety of media including interpretive trails and boardwalks, wildlife centers, talks and walks, audio-visual productions, publications, and exhibits that communicate to a wide spectrum of visitors.

7.3 What is our policy for interpretation? The overarching goal of our priority public use policies is to enhance opportunities and access to high quality visitor experiences on national wildlife refuges while not compromising wildlife conservation. Interpretation is a legitimate and appropriate public use of the System, and along with the five other priority public uses in the Refuge Improvement Act, will receive enhanced consideration over other uses. This means we will especially invest our resources in providing high quality interpretation experiences for refuge visitors. When determined to be compatible, refuge managers are strongly encouraged to provide to the public interpretation opportunities. Our interpretation programs will promote understanding and appreciation of natural and cultural resources and their management on all lands included in the System. We encourage refuge staff to coordinate refuge interpretive programs and materials with applicable local, State, and Federal programs. We also encourage refuge staff to take advantage of opportunities to work with other partners who have an interest in helping us promote high quality wildlife-dependent recreational programs on refuges.

7.4 What are our objectives for interpretive programs on refuges? We will develop and maintain interpretive programs on refuges to:

A. Increase public understanding and support for the Refuge System;

B. Develop a sense of stewardship leading to actions and attitudes that reflect concern and respect for wildlife resources, cultural resources, and the environment;

C. Provide an understanding of the management of our natural and cultural resources.

D. Provide safe, enjoyable, accessible, meaningful, and high quality experiences for visitors increasing their awareness, understanding, and appreciation of fish, wildlife, plants, and their habitats.

7.5 What is our legislative authority for interpretation? Reference 605 FW 1 for laws that govern interpretation on Refuge System lands.

7.6 Do we have common definitions for interpretive terms? Yes. The following are definitions of terms used in reference to interpretation.

A. Interpretive plans. Interpretive plans are documents (see Exhibit 1) outlining key resources, visitor profiles, facilities, budget needs, and development plans as part of a refuge Comprehensive Conservation Plan or visitor services plan. The documents include interpretive objectives, themes, and activities presented at a refuge.

B. Interpretive objectives. Desired, measurable outcomes of an interpretive activity.

C. Interpretive themes. Central messages we strive to communicate. All interpretive activities should have messages relating back to overall field station interpretive subjects or topics as well as Service and/or Refuge System themes.

D. Interpretive activities/tools. The ways we convey interpretive messages to visitors, on-site or off-site, such as, but not limited to, tours, talks, slide presentations, brochures, self-guided trails, audio tapes, videos, and exhibits.

7.7 What are some standards and requirements for interpretive programs? When we develop interpretive programs, we will utilize the following:

A. Principles of interpretation. Our interpretive activities will utilize the principles included in published materials describing the art of interpretation such as Freeman Tilden's “Interpreting Our Heritage” or others. We link the resources of the Refuge System with the concepts and values visitors bring to our sites. Specifically, we strive to:

(1) Relate what we display or describe to each visitor's expectations and experience;

(2) Motivate and reveal;

(3) Inspire and develop curiosity, not solely instruct;

(4) Relate enough of the story to introduce concepts and ideas, pique visitor's interest, allow visitors to develop their own conclusions; and

(5) Organize activities around central themes with measurable objectives.

B. Interpretation as a management tool. Well-designed interpretive services can be our most effective and inexpensive resource management tool. For many visitors, taking part in one or more interpretive activities is their primary contact with refuge staff, their chance to find out about refuge messages, and could be their first contact with the refuge, conservation, and wildlife. Through these contacts, we have the opportunity to influence visitor's attitudes toward the Service and their behaviors when visiting units of the Refuge System. Interpretive planning and subsequent activities and products can:

(1) Help visitors understand the impacts of their actions, minimizing unintentional resource damage and wildlife disturbance;

(2) Communicate rules and regulations so they relate to visitors, solving or preventing potential management problems; and

(3) Help us make management decisions and build public support by providing insight into management practices.

C. Assuring highest levels of quality: We carefully consider personnel, locations, and types of programs and products in order to provide high quality interpretive services.

(1) Staff conducting interpretive services must have more than subject matter knowledge. For example, the skill required to write text for interpretive exhibits and brochures differs from technical writing skills. We strive to select dynamic people who enjoy interacting with visitors, demonstrate organizational and communications skills, and act professionally.

(2) Often, sensitive habitats are the most attractive places to visit and best places to interpret. To minimize impacts on sensitive habitats we: use staff and/or trained volunteers to lead activities; limit group size; select certain times of day for programs; design facilities and activities to minimize disturbance to wildlife and habitats; and close areas seasonally. Visitors can experience sensitive resource areas with minimal impact by using boardwalks, viewing blinds, remote camera views, exhibits, and telescopes. Other techniques may be the use of dioramas, interactive displays, and digital (i.e., CD-ROM) interpretive methods. We can also separate areas devoted to wildlife observation and education from other programs such as fishing and hunting to preserve a high quality experience for all visitors.

(3) While refuge staff should try to reach as many individuals and interest groups as possible with our message, quantity is not the only measure of success. Program quality and effectiveness is crucial. Refuge managers strive for a balanced program with a variety of experiences for visitors with different levels of time, ability, and, interest. Refuge staff periodically review and evaluate programs to assess effectiveness.

D. Making interpretation accessible: We will meet accessibility standards and requirements by adhering to the Architectural Barriers Act of 1968 (42 U.S.C. 51, Sec. 4151), the 1984 Uniform Federal Accessibility Standards (UFAS), and the Americans with Disabilities Act of 1990 (42 U.S.C. 126). These acts specify physical accessibility in all construction and renovation projects funded wholly or in part by the Federal government. Also, the Rehabilitation Act Amendments of 1998, (29 U.S.C. 791 et seq.), require accessibility for all programs receiving Federal funds. Meeting accessibility requirements presents the challenge and opportunity to provide better interpretive activities for everyone. Creating media, facilities and programs that are more easily read and understood, paths that are level or have ramps and handrails, and exhibits that provide audio or tactile elements benefits everyone and provides multiple paths to learning.

7.8 Why should we do interpretive planning? We are involved in interpretive planning for the following reasons:

A. Interpretive plans help focus staff time, funding, and other resources on our primary interpretive messages and give focus and direction to exhibits, programs, and other interpretive activities. This planning can also help set field station and funding priorities and help locate sources of alternative funding. We can use elements from Comprehensive Conservation Plans, step-down management plans, and visitor service plans to develop a refuge interpretive plan.

B. When we develop interpretive plans, they become the basis for the development of future programs and services. New activities should always relate to and support the themes developed in the refuge interpretive plan. Exhibit 1 contains a general outline for interpretive plans.

7.9 What delivery methods do we use for interpretive activities? There are two broad categories of interpretive activities: self-guided and personal services. Self-guided interpretation includes brochures, exhibits, kiosks, audio-visual media (including computer programs), and self-guided trails. Personal services interpretation includes information desk duty, group presentations, guided talks and tours, and special events. We provide a variety of interpretive experiences that appeal to a broad spectrum of interests and learning styles. We strive for:

(1) High quality, self-guided services, since they reach a larger audience, are more readily available, and visitors can use them at their own pace;

(2) High quality personal contact to initiate conversation and answer questions; and

(3) A variety of interpretive experiences that appeal to varying visitor interests.

7.10 How should we produce interpretive media? The following are interpretive media available to us:

A. Self-guided products will maintain the highest level of quality and be designed as to be appropriate for the site and audience. Regional Public Use Coordinators can assist with planning, design, and contracting for production of self-guided products. Final approval for text and design of self-guided products comes from the Regional Offices.

B. We will design our brochures and publications following the “U.S. Fish and Wildlife Manual of Graphic Standards for Publications.” The Government Printing Office (GPO) processes all of our printing and duplication. Regional Printing Coordinators must approve requests to use a commercial source other than GPO.

7.11 How do we evaluate our interpretive program? We evaluate our programs to assure that we are providing the highest level of service. By periodically reviewing programs, we determine program needs, initiate changes, and decide if we are meeting our goals and objectives. Some sources for evaluation methods are interpretation textbooks, other agencies or organizations, and professional associations like the National Association for Interpretation.

A. Performance evaluation. We evaluate individuals and services to improve delivery methods, messages, and the interpretive approach for future activities. Remember that surveys must follow OMB requirements and restrictions. Some methods used include:

(1) Supervisory feedback;

(2) Peer evaluation;

(3) Self-evaluation; and

(4) Audience evaluations.

B. Program evaluation. Evaluating overall programs helps keep our information up-to-date and current. Often, refuge staff use program attendance and cost to compare activities, but true program evaluation must go deeper. We can identify areas needing further attention by examining use trends, location and time variables, and environmental factors. Areas to consider include:

(1) Is program participation increasing, decreasing, or staying the same?

(2) Do visitors attend more than one program or move on to other sites? Do visitors return and revisit interpretive facilities or guided programs? Do they bring their friends?

(3) Have staffing levels changed?

(4) How much of the station budget are we devoting to interpretive programs? What are those dollars buying?

(5) If too many or too few people attend some programs, what can we do to get attendance to an optimal level?

(6) Should we change or drop the program/activity?

C. Visitor reactions. We use many methods to determine visitor reaction to interpretive activities. We can:

(1) Develop comment forms in a variety of alternative formats, if needed, and make them available at a variety of locations;

(2) Interview visitors in focus groups regarding what they liked or didn't like about our interpretive activities;

(3) Observe and record visitor actions at interpretive facilities (e.g., monitor how long visitors stay, which exhibits they approach, whether they leave early from exhibits, audio-visual, or presentations, or ask thoughtful questions);

(4) Get a fresh perspective by visiting and observing other sites and then critiquing our own facilities;

(5) Observe visitors and note their behaviors when they visit refuges. Record the instances of littering, vandalism, or poaching. Is there a change in compliance with posted regulations?; and

(6) Request a Regional Office visitor services' review or invite staff from other refuges to critique your program.

D. Quality and effectiveness. The impact an activity had on the participants is the most difficult element to evaluate. We can:

(1) Find some visitor impressions by using focus groups and individual interviews;

(2) Use testimonials and unsolicited comments to assess the relative value of programs to visitors; and

(3) Evaluate quality and effectiveness through formal research by working with local colleges and universities.

Exhibit 1—Interpretive Plan Outline

A. Define key resources: Start by deciding what makes the refuge special. Does it have biological significance for key species, the ecosystem, endangered species protection, or restoration? Are there unique habitats represented or notable seasonal natural events? Are there known cultural resources requiring protection or interpretation? Has human history in the area had an impact on resources? Are you conducting habitat or population management activities? You can use maps to show resource locations. To complement the maps you should define habitat sensitivity and, if data exists, acceptable levels of visitation.

B. Define key audiences: Who are our present and future visitors?

(1) Demographics: You can determine some visitor demographics by contacting the State department of tourism, a community visitor's bureau, and neighboring attractions. You can glean some information from visitor contact stations and trailhead registration books. Even parking lot license plate counts can help indicate trends. Formal surveys go more in depth, but contact your Regional Office regarding Office of Management and Budget clearance for information allocation requirements, types of questions you can use, and the best way to administer a survey. From this data you can develop lists of visitor groups, (urban, international, short-term, repeat, schools, families, retirees, special interests like birding, hunting, and others).

(2) Visitor Expectations and Perceptions: What will each group need or expect when they arrive? What part of your interpretive program will appeal to each visitor group?

(3) Use Patterns: Does your refuge have any special concerns relating to seasons, time of day, existing or potential traffic patterns or facility capacity. Do any of these use patterns need to change?

C. Define goals and objectives: We must establish interpretive goals (guiding statements) and objectives (measurable outcomes) in the Comprehensive Conservation Plan. You should refer to this plan when developing your program. Focus on resource priorities on the refuge.

(1) Management goals focus on ways to protect resources while providing visitor opportunities.

(2) Interpretive goals identify what you hope visitors will remember, feel, appreciate, or understand after taking part in an interpretive activity. Objectives are measurable and identify what visitors will be able to do after taking part in your program.

D. Develop interpretive themes: The major messages you want visitors to take with them are themes. They can focus on refuge management issues, ecosystem issues, Refuge System issues, or on the Service. We derive themes for specific interpretive activities from overall station themes. Themes should be resource-based and stated in complete sentences. Developing good themes is difficult. Sometimes, identifying topics first, such as, Wildlife, Ecosystems, Neotropical Migrants, or Endangered Species can help. Often the theme works much like a thesis, and you should develop the theme in a manner appropriate for your audience as you plan out the program.

E. Select interpretive activities: Based on available resources, determine methods and locations for delivering your messages. You should evaluate the pros and cons of each and try to find a balance between personal and self-guided services. One way to do this is to create a chart with headings like Themes, Activities, and Locations to show how and where you will deliver your messages.

F. Implementation: After you have developed activities for your station, you should define staffing, volunteer, facility and funding needs. Prioritize and indicate possible funding sources from within and outside the Service. Input these identified needs in the Refuge Operations System (RONS) and Maintenance Management System (MMS).

G. Evaluation: You should consider evaluation at each phase of the program, especially at the beginning. Using some of the evaluation tools mentioned above, find out if you meet your interpretive goals. Have your themes become a part of the overall station experience? Are you meeting group needs and expectations? What portion of your plan may you need to change?

Dated: December 22, 2000.
Jamie Rappaport Clark,
Director, U.S. Fish and Wildlife Service.

[FR Doc. 01-397 Filed 1-12-01; 8:45 am]

BILLING CODE 4310-55-U